DEPARTMENT OF TRANSPORTATION

Pipeline and Hazardous Materials Safety Administration

49 CFR Parts 192, 193, 195, 198, and 199

[Docket No. PHMSA-2011-0337; Amdt. Nos. 192-119; 193-25; 195-99; 198-6; 199-26]

RIN 2137-AE85

Pipeline Safety: Periodic Updates of Regulatory References to Technical Standards and Miscellaneous Amendments

AGENCY: Pipeline and Hazardous Materials Safety Administration (PHMSA), Department of Transportation (DOT).

ACTION: Final rule.

SUMMARY: PHMSA is amending the Federal pipeline safety regulations to incorporate by reference new, updated or reaffirmed editions of the voluntary consensus standards that are applicable to pipelines subject to the requirements of the Federal pipeline safety regulations. This final rule also makes non-substantive editorial corrections clarifying regulatory language in certain provisions. These changes are minor and do not require pipeline operators to undertake any significant new pipeline safety initiatives.

DATES: This final rule is effective March 6, 2015. The incorporation by reference of certain publications listed in this final rule is approved by the Director of the Federal Register as of March 6, 2015.

FOR FURTHER INFORMATION CONTACT: Technical Information: Mike Israni by phone at 202-366-4571 or by email at mike.israni@dot.gov.

Regulatory Information: Cheryl Whetsel by phone at 202-366-4431 or by email at cheryl.whetsel@dot.gov.

SUPPLEMENTARY INFORMATION:

I. Background

The National Technology Transfer and Advancement Act of 1995 (NTTAA) (Pub. L. 104-113; March 7, 1996) directs Federal agencies to use voluntary consensus standards and design specifications developed by voluntary consensus standard bodies instead of government-developed voluntary technical standards when appropriate. The Office of Management and Budget (OMB) Circular A-119, “Federal Participation in the Development and Use of Voluntary Consensus Standards and in Conformity Assessment Activities,” sets the policy for Federal use and development of voluntary consensus standards. As defined in OMB Circular A-119, voluntary consensus standards are technical standards developed or adopted by domestic and international organizations. These organizations use agreed-upon procedures to update and revise their published standards every three to five years to reflect modern technology and best technical practices.

The legal effect of incorporation by reference (IBR) is that the incorporated material is treated as if it were published in full in the Federal Register and the Code of Federal Regulations (CFR). This material, like any other properly issued rule, has the force and effect of law. Congress authorized incorporation by reference to reduce the volume of material published in the Federal Register and the CFR (see 5 U.S.C. 552(a) and 1 CFR part 51). Congress granted authority to the Director of the Federal Register to determine whether a proposed IBR serves the public interest. Unless expressly provided otherwise in a regulation, if a provision of a standard incorporated by reference conflicts with a regulation, the regulation takes precedence.

New or updated standards often further innovation and increase the use of new technologies, materials and management practices that improve the safety and operations of pipelines and pipeline facilities. Because pipeline safety regulation involves a great deal of technical subject matter, there are 64 standards and specifications that have long been incorporated by reference in 49 CFR part 192, Transportation of Natural and Other Gas by Pipeline: Minimum Federal Safety Standards; 49 CFR part 193, Liquefied Natural Gas Facilities: Federal Safety Standards; and 49 CFR part 195, Transportation of Hazardous Liquids by Pipeline. PHMSA regularly reviews updates to currently referenced consensus standards as well as new editions of standards to ensure that their content remains consistent with the intent of the pipeline safety regulations. Previous updates to incorporate industry standards by reference were published on August 11, 2010 (75 FR 48593), February 1, 2007 (72 FR 4657), June 9, 2006 (71 FR 33402), June 14, 2004 (69 FR 32886), February 17, 1998 (63 FR 7721), June 6, 1996 (61 FR 2877), and May 24, 1996 (61 FR 26121). The list of publications that PHMSA has incorporated by reference is found in 49 CFR 192.7, 193.2013, and 195.3.

PHMSA employees participate in more than 25 national voluntary consensus standards-setting organizations that address pipeline design, construction, maintenance, inspection and repair. Agency participation in the development of voluntary consensus standards is important to eliminate the necessity for development or maintenance of separate, government-unique standards, to further national goals and objectives such as increased use of environmentally sound and energy-efficient materials, products, systems, services or practices and to improve public safety. As representatives of the agency, these subject matter experts actively participate in discussions and technical debates, register opinions and vote in accordance with the procedures of the standards body at each stage of the standards development process (unless prohibited from doing so by law). However, it is important to note that agency participation does not necessarily constitute agency agreement with, or endorsement of, all decisions reached by such organizations. PHMSA has the responsibility to establish regulations and standards that ensure pipelines are operated safely and will only adopt those portions of industry standards into the Federal regulations that meet the agency's goals and best promote public safety.

Availability of Materials to Interested Parties

PHMSA has worked to make the materials to be incorporated by reference reasonably available to interested parties. Section 24 of the “Pipeline Safety, Regulatory Certainty, and Job Creation Act of 2011” (Pub. L.112-90, January 3, 2012), amended 49 U.S.C. 60102 by adding a new public availability requirement for documents incorporated by reference after January 3, 2013. The law states: “Beginning 1 year after the date of enactment of this subsection, the Secretary may not issue guidance or a regulation pursuant to this chapter that incorporates by reference any documents or portions thereof unless the documents or portions thereof are made available to the public, free of charge, on an Internet Web site.” This section was further amended on August 9, 2013. The current law continues to prohibit the Secretary from issuing a regulation that incorporates by reference any document unless that document is available to the public, free of charge, but removes the Internet Web site requirements (Pub. L. 113-30, August 9, 2013). The Department of Transportation has until August 9, 2015, to comply with this provision.

Pursuant to this mandate, PHMSA has negotiated agreements with all but two of the standards-setting organizations with standards already incorporated by reference in the pipeline safety regulations to make viewable copies of those standards available to the public at no cost. The organizations having agreements are: American Petroleum Institute (API), American Gas Association (AGA), American Society for Testing and Materials (ASTM), Gas Technology Institute (GTI), Manufacturers Standardization Society of the Valve and Fittings Industry, Inc. (MSS), NACE International (NACE), and National Fire Protection Association (NFPA). Each organization's mailing address and Web site is listed in Parts 192, 193, and 195. PHMSA understands that the two standards organizations that we do not have agreements with are considering taking steps in addition to sales of the standards to achieve greater availability.

II. Summary Review of Standards and Amendments

On August 16, 2013, PHMSA published a notice of proposed rulemaking (NPRM) to incorporate into the pipeline safety regulations two new standards: API RP 5LT “Recommended Practice for Truck Transportation of Line Pipe” (First edition March 1, 2012); and ASTM D2513-09a,“Standard Specification for Polyethylene (PE) Gas Pressure Pipe, Tubing, and Fittings” (December 1, 2009 (except section 4.2 pertaining to rework materials) and 21 updated editions of standards currently incorporated by reference. These standards affect gas pipelines, liquefied natural gas facilities and hazardous liquid pipelines (Parts 192, 193, and 195, respectively). The vast majority of the updated standard editions involve incremental changes in design, maintenance and operation provisions as additional knowledge is gained by stakeholders. With certain exceptions (API RP 1162, “Public Awareness Programs for Pipeline Operators” (1st edition, December 2003) discussed below, PHMSA believes that these updates are consistent with the Federal pipeline safety mission. In addition, the adoption of API RP 5LT addresses National Transportation Safety Board's (NTSB) Recommendation P-04-03.

A. Standards Incorporated

This final rule accepts the following updated editions of technical standards currently incorporated by reference in Parts 192, 193, and 195:

American Petroleum Institute

(1) API Recommended Practice 5L1, “Recommended Practice for Railroad Transportation of Line Pipe” (7th edition, September 2009), into 49 CFR 192.7, 192.65(a)(1), 195.3, 195.207(a).

[Replaces IBR: API Recommended Practice 5L1, “Recommended Practice for Railroad Transportation of Line Pipe” (6th edition, 2002).]

(2) API Recommended Practice 5LT, “Recommended Practice for Truck Transportation of Line Pipe” (First edition March 1, 2012), into 49 CFR 192.7, 192.65(c), 195.3, 195.207(c).

(3) API Recommended Practice 5LW, “Transportation of Line Pipe on Barges and Marine Vessels” (3rd edition, September 2009), into 49 CFR 192.7, 192.65(b), 195.3, 195.207(b).

[Replaces IBR: API Recommended Practice 5LW, “Transportation of Line Pipe on Barges and Marine Vessels” (2nd edition, December 1996, effective March 1, 1997).]

(4) ANSI/API Specification 5L, “Specification for Line Pipe” (45th edition, December 1, 2012, effective July 1, 2013), into 49 CFR 192.7; 192.55(e); 192.112(a)(4); 192.112(b)(1)(i); 192.112(b)(1)(iii); 192.112(b)(2)(iv); 192.112(d)(1); 192.112(e)(1); 192.113; Item I, Appendix B to Part 192; 195.3; 195.106(b)(1)(i); 195.106(e).

[Replaces IBR: ANSI/API Specification 5L/ISO 3183, “Specification for Line Pipe” (44th edition, 2007), includes errata (January 2009) and addendum (February 2009).] (5) ANSI/API Specification 6D, “Specification for Pipeline Valves” (23rd edition, April 1, 2008, effective October 1, 2008), includes Errata 1 (June 2008), Errata 2 (November 2008), Errata 3 (February 2009), Errata 4 (April 2010), Errata 5 (November 2010), Errata 6 (August 2011), Addendum 1 (October 2009), Addendum 2 (August 2011), and Addendum 3 (October 2012) into 49 CFR 192.7; 192.145(a); 195.3, 195.116(d).

[Replaces IBR: ANSI/API Specification 6D, “Specification for Pipeline Valves” (23rd edition (April 2008, effective October 1, 2008)) and Errata 3 (includes 1 and 2, February 2009).]

(6) API Specification 12F, “Specification for Shop Welded Tanks for Storage of Production Liquids” (12th edition, October 2008, effective April 1, 2009) into 49 CFR 195.3, 195.132(b)(1), 195.205(b)(2), 195.264(b)(1), 195.264(e)(1), 195.307(a), 195.565, 195.579(d).

[Replaces IBR: API Specification 12F, “Specification for Shop Welded Tanks for Storage of Production Liquids,” (11th edition, November 1, 1994, reaffirmed 2000, errata, February 2007);]

(7) API Standard 620, “Design and Construction of Large, Welded, Low-pressure Storage Tanks” (11th edition, February 2008), addendum 1, (March 2009), addendum 2 (August 2010), and addendum 3 (March 2012) into 49 CFR 193.2013; 193.2101(b); 193.2321(b)(2); 195.3; 195.132(b)(2); 195.205(b)(2); 195.264(b)(1); 195.264(e)(3); 195.307(b); 195.565; 195.579(d).

[Replaces IBR: API Standard 620, “Design and Construction of Large, Welded, Low-Pressure Storage Tanks” (11th edition, February 2008, addendum 1 March 2009).]

(8) API Standard 650, “Welded Tanks for Oil Storage” (11th edition, June 2007, effective February 1, 2012), includes addendum 1 (November 2008), addendum 2 (November 2009), addendum 3 (August 2011), and errata (October 2011) into 49 CFR 195.3; 195.132(b)(3); 195.205(b)(1); 195.264(b)(1); 195.264(e)(2); 195.307(c); 195.307(d); 195.565; 195.579(d).

[Replaces IBR: API Standard 650, “Welded Steel Tanks for Oil Storage” (11th edition, June 2007), addendum 1 (November 2008).]

(9) ANSI/API Standard 2000, “Venting Atmospheric and Low-pressure Storage Tanks” (6th edition, November 2009) into 49 CFR 195.3, 195.264(e)(2), 195.264(e)(3).

[Replaces IBR: API Standard 2000, “Venting Atmospheric and Low-Pressure Storage Tanks Non-Refrigerated and Refrigerated” (5th edition, April 1998, errata, November 1999).]

American Society for Testing and Materials (ASTM)

(1) ASTM A53/A53M-10, “Standard Specification for Pipe, Steel, Black and Hot-Dipped, Zinc-Coated, Welded and Seamless” (October 1, 2010), into 49 CFR 192.7; 192.113; Item 1, Appendix B to Part 192; 195.3; 195.106(e).

[Replaces IBR: ASTM A53/A53M-07, “Standard Specification for Pipe, Steel, Black and Hot-Dipped, Zinc-Coated Welded and Seamless” (September 1, 2007).]

(2) ASTM A106/A106M-10, “Standard Specification for Seamless Carbon Steel Pipe for High-Temperature Service” (October 1, 2010), into 49 CFR 192.7; 192.113; Item 1, Appendix B to Part 192; 195.3; 195.106(e).

[Replaces IBR: ASTM A106/A106M-08, “Standard Specification for Seamless Carbon Steel Pipe for High-Temperature Service” (July 15, 2008).]

(3) ASTM A333/A333M-11, “Standard Specification for Seamless and Welded Steel Pipe for Low-Temperature Service” (April 1, 2011), into 49 CFR 192.7; 192.113; Item 1, Appendix B to Part 192; 195.3; 195.106(e).

[Replaces IBR: ASTM A333/A333M-05, “Standard Specification for Seamless and Welded Steel Pipe for Low-Temperature Service” (March 1, 2005).]

(4) ASTM A372/A372M-10, “Standard Specification for Carbon and Alloy Steel Forgings for Thin-Walled Pressure Vessels” (October 1, 2010), into 49 CFR 192.7, 192.177(b)(1).

[Replaces IBR: ASTM A372/A372M-03 (reapproved), “Standard Specification for Carbon and Alloy Steel Forgings for Thin-Walled Pressure Vessels” (March 1, 2008).]

(5) ASTM A671/A671M-10, “Standard Specification for Electric-Fusion-Welded Steel Pipe for Atmospheric and Lower Temperatures” (April 1, 2010), into 49 CFR 192.7; 192.113; Item 1, Appendix B to Part 192; 195.3; 195.106(e).

[Replaces IBR: ASTM A671-06 (2006) “Standard Specification for Electric-Fusion-Welded Steel Pipe for Atmospheric and Lower Temperatures” (May 1, 2006).]

(6) ASTM A672/A672M-09, “Standard Specification for Electric-Fusion-Welded Steel Pipe for High-Pressure Service at Moderate Temperatures” (October 1, 2009), into 49 CFR 192.7; 192.113; Item 1, Appendix B to Part 192; 195.3; 195.106(e).

[Replaces IBR: ASTM A672-08, “Standard Specification for Electric-Fusion-Welded Steel Pipe for High-Pressure Service at Moderate Temperatures” (May 1, 2008).]

(7) ASTM A691/A691M-09, “Standard Specification for Carbon and Alloy Steel Pipe, Electric-Fusion-Welded for High-Pressure Service at High Temperatures” (October 1, 2009), into 49 CFR 192.7; 192.113; Item 1, Appendix B to Part 192; 195.3; 195.106(e).

[Replaces IBR: ASTM A691-98 (reapproved 2007), “Standard Specification for Carbon and Alloy Steel Pipe, Electric-Fusion-Welded for High-Pressure Service at High Temperatures” (November 1, 2007).]

(8) ASTM D2513-09a, “Standard Specification for Polyethylene (PE) Gas Pressure Pipe, Tubing, and Fittings” (December 1, 2009), into 49 CFR 192.7; 192.123(e); 192.191(b); 192.283(a); Item 1, Appendix B to Part 192.

Manufacturers Standardization Society of the Valve and Fittings Industry, Inc. (MSS)

(1) MSS SP-44-2010, Standard Practice, “Steel Pipeline Flanges” (2010 edition, includes Errata, May 20, 2011), into 49 CFR 192.7, 192.147(a). [Replaces IBR: MSS SP-44-2006, Standard Practice, “Steel Pipeline Flanges” (2006 edition).]

(2) MSS SP-75-2008, Standard Practice, “Specification for High-Test, Wrought Butt-Welding Fittings” (2009 edition), into 49 CFR 195.3, 195.118(a). [Replaces IBR: MSS SP-75-2004, “Specification for High Test Wrought Butt Welding Fittings” (2004 edition).]

NACE International (NACE)

(1) ANSI/NACE Standard SP0502-2010, Standard Practice, “Pipeline External Corrosion Direct Assessment Methodology” (June 24, 2010), into 49 CFR 192.7; 192.923(b)(1); 192.925(b), (b)(1), (b)(1)(ii), (b)(2), (b)(3), (b)(3)(ii)(A), (b)(3)(ii)(B), (b)(3)(iv), (b)(4), (b)(4)(ii); 192.931(d); 192.935(b)(1)(iv); 192.939(a)(2); 195.3; 195.588(b)(1), (b)(2), (b)(2)(iii), (b)(3), (b)(4), (b)(4)(ii)(A), (b)(4)(ii)(B), (b)(iv), (b)(5), (b)(5)(ii).

[Replaces IBR: NACE SP0502-2008, Standard Practice, “Pipeline External Corrosion Direct Assessment Methodology” (reaffirmed March 20, 2008).]

National Fire Protection Association (NFPA)

(1) NFPA-30 (2012), “Flammable and Combustible Liquids Code,” includes Errata 1, Errata 2 (2012 edition, June 20, 2011), into 49 CFR 192.7, 192.735(b), 195.3, 195.264(b)(1).

[Replaces IBR: NFPA-30, “Flammable and Combustible Liquids Code” (2008 edition, approved August 15, 2007).]

(2) NFPA-70 (2011), “National Electrical Code” (2011 edition, approved August 5, 2010), into 49 CFR 192.7, 192.163(e), 192.189(c). [Replaces IBR: NFPA 70 (2008), “National Electrical Code” (NEC 2008, approved August 15, 2007).]

B. Standards Not Incorporated

PHMSA did not propose to incorporate by reference API Recommended Practice (RP) 1162 (second edition, December 2010); API Standard (Std) 653 (4th edition) and Addendum (2010); or section 4.2, “Rework Material” of ASTM D2513-09a, “Standard Specification for Polyethylene (PE) Gas Pressure Pipe, Tubing, and Fittings.” except for PHMSA has not incorporated these three standards because:

• API RP1162-2003—This rule retains API RP 1162, “Public Awareness Programs for Pipeline Operators” (1st edition, December 2003). PHMSA has decided not to incorporate the second edition at this time because it intends to consult with state pipeline authorities after they report on the results of their 2012 state compliance inspections. These inspections were based on the criteria in the first edition. A public workshop will then be conducted to discuss the inspection data and best practices.

• API Std 653-2001—This rule retains API Std 653-2001, “Tank Inspection, Repair, Alteration, and Reconstruction” (3rd edition, December 2001), with the exception of section 6.4.3, “Alternative Internal Inspection Interval.” PHMSA has decided to exclude section 6.4.3 because of concerns that the risk-based inspection (RBI) procedures described in section 6.4.3 of the standard do not require adequate or consistent assessment factors for establishing an alternate internal inspection interval. First, the standard states that an operator “should” consider certain factors in making an RBI assessment of a tank, but it does not make such consideration mandatory. Second, the RBI procedures described in section 6.4.3 would allow operators to establish minimum bottom plate thicknesses less than the minimum values referenced in table 6-1, “Bottom Plate Minimum Thickness,” and section 4.4.5.4, “Minimum Thickness for Tank Bottom Plate.” Third, the procedures may also increase or decrease the 20-year inspection interval described in 6.4.2.1, “Internal Intervals.” PHMSA does not agree with allowing such a lengthy interval between inspections.

Under this rule, any operator who previously established an alternate internal inspection interval using the procedures in section 6.4.3 must reestablish such intervals based on section 6.4.2, “Inspection Intervals,” of API Std 653-2001 within 2 years from the date of this final rule.

• ASTM D2513-09a—PHMSA will incorporate ASTM D2513-09a, “Standard Specification for Polyethylene (PE) Gas Pressure Pipe, Tubing, and Fittings,” except section 4.2, “Rework Material.” Section 4.2 states: “Clean rework material of the same commercial designation, generated from the manufacturer's own pipe and fitting production shall not be used unless the pipe and fitting produced meets all the requirements of this specification. The use of these rework materials shall be governed by the requirements of section 4.3 and Plastic Pipe Institute (PPI) Technical Note TN-30/2006.”

Currently, rework materials are limited to a maximum of 30 percent by weight. One of the main steps of plastic pipe manufacturing includes an extrusion process, where raw or virgin material (usually supplied in the form of pellets) is heated, melted, mixed and conveyed into a die and shaped into a pipe. Rework (also known as regrind) is a process by which plastic pipe that does not fall within acceptable specifications following the extrusion process can be reused if it meets the requirements of Section 4.2, including requirements in PPI TN-30/2006. Requirements in PPI TN-30/2006 include reducing the size of the material through appropriate stages (i.e. regrinding the material) to an equivalent size to the raw virgin pellet material and avoiding contamination. The ground up material is then mixed back in with a portion of raw pellet material prior to going back through the extrusion process. Despite these requirements, PHMSA believes prohibiting the use of rework material is the only way to ensure the materials used by operators are not contaminated during the manufacturing process. This topic received a number of comments and was discussed in detail at the advisory committee meetings. Information about these comments is provided in Section IV.

During the drafting process of this final rule, the Federal Register advised that PHMSA would not be allowed to include an exception clause to the list of standards in the centralized listing as PHMSA had discussed in the NPRM and at the advisory committee meeting. Instead, revisions are noted in each of the affected sections to accommodate the incorporation of ASTM D2513-09a for PE pipe and the continued incorporation of ASTM D2513-87 and ASTM D2513-99 for non-PE plastic pipe. The revisions are summarized below:

○ In § 192.7, PHMSA is adding ASTM D2513-09a to the listing of documents incorporated by reference.

○ In § 192.59, PHMSA is adding a new paragraph (d) to specify that PHMSA will prohibit rework for all plastic pipe manufactured after the effective date of this final rule and used in pipeline systems subject to Part 192.

○ In § 192.63(a)(1), PHMSA is clarifying that ASTM D2513-87 applies to plastic pipe and fittings made of materials other than polyethylene.

○ In § 192.123(e)(2), PHMSA is including verbiage to indicate that ASTM D2513-09a pertains to PE pipe only.

○ In § 192.191, PHMSA is clarifying that ASTM D2513-99 is applicable to plastic materials other than polyethylene and is adding a reference to ASTM D2513-09a applicable to PE materials only.

○ In § 192.283(a)(1)(i), PHMSA is clarifying that ASTM D2513-99 is applicable to plastic materials other than polyethylene and is adding a reference to ASTM D2513-09a applicable to polyethylene plastic (PE) materials only.

○ In Part 192, Appendix B, Section 1, PHMSA is adding ASTM D2513-09a to the list of pipe specifications.

C. Editorial Corrections and Clarifications

This final rule is also making several non-substantive editorial amendments to Parts 192, 193, and 195, and 198. The final rule:

• Changes the “Centralized IBR Sections” from a table format to a listing.

• Adds abbreviated titles to the list of standards to be incorporated in §§ 192.7, 193.2013, and 195.3.

• Revises current titles to abbreviated titles.

• Corrects the reference to the Gas Technology Institute (GTI) research document (formerly the Gas Research Institute (GRI)) document number from GRI-89/0242 to GTI-04/0049.

• Removes an incorrect reference to ASME Boiler & Pressure Code, Section VII, Division 2 in § 193.2321.

• Inserts the year of certain standards where more than one edition may be applied.

• Inserts the notation “Incorporated by Reference” in the regulation text if not included previously.

In addition, the following technical corrections and changes are being made to specific sections as follows:

• Section 192.283(a)(1)(i) currently states “or par. 8.9 (Sustained Static Pressure Test)”. This sentence has been deleted because PHMSA believes the reference is an error. Paragraph 8.9 does not exist in current edition of ASTM D2513-99 nor does it appear in several other versions of this referenced standard. PHMSA's staff researched several editions of ASTM D2513, the pipeline safety regulations and Federal Register notices to determine if the paragraph may have been associated with a different standard but found no reference to paragraph 8.9. Furthermore, PHMSA is clarifying that ASTM D2513-09a is for PE pipe only as this section pertains to both PE manufactured to ASTM D2513-09a and non-PE plastic manufactured to ASTM D2513-99. The resulting language will read, “In the case of thermoplastic pipe, paragraph 6.6 (Sustained Pressure Test) or paragraph 6.7 (Minimum Hydrostatic Burst Test) of ASTM D2513-99 for plastic materials other than polyethylene or ASTM D2513-09a for polyethylene plastic materials (incorporated by reference, see § 192.7).”

• Section 195.264(b)(1)(i) and (ii) reference section numbers from an earlier edition of NFPA-30 previously incorporated by reference. The section references are changed to reflect the current edition section numbers from NFPA-30 (2012). The new section numbers are 22.11.1 and 22.11.2.

• Section 195.432(b) states that operators must inspect the physical integrity of in-service atmospheric and low pressure steel aboveground breakout tanks in accordance with API Standard 653. PHMSA is amending this section by disallowing the use of the procedures in section 6.4.3, Alternative Internal Inspection Interval, of API Standard 653. This final rule also provides instruction to operators who previously calculated alternative internal inspection intervals using the guidance in section 6.4.3 of API Std 653.

• Section 195.452(l) states that an operator must maintain certain records for review during an integrity management (IM) inspection. In this rule, PHMSA is establishing that operators must maintain their IM records for the useful life of the pipe.

• Section 198.37(f) states operators of underground pipeline facilities participating in one-call facility notification systems must be required to respond in the manner prescribed in § 192.614(b)(4) through (b)(6). This section is changed to reflect the correct references from § 192.614(b)(4) through (b)(6) to § 192.614(c)(4) through (c)(6).

• Section 199.111 contains conflicting requirements as those stated in 49 CFR part 40 causing confusion for both the covered employee and the operator who must comply with this section and with Part 40. For example, in Part 40, it is the responsibility of the medical review officer (MRO) to select the laboratory to which the split sample should be sent however in § 199.111 the specimen donor (i.e., the covered employee), and not the MRO, selects the testing laboratory to which his/her split specimen should be sent for corroborating evaluation. Another discrepancy between the regulations deals with whether the same laboratory can retest a split specimen. In order to eliminate these conflicts, PHMSA is removing section § 199.111. Operators are to follow the requirements in Part 40.

III. Advisory Committees Actions

On December 17, 2013, and February 25, 2014, PHMSA conducted meetings of the Technical Pipeline Safety Standards Committee (TPSSC) and the Technical Hazardous Liquid Pipeline Safety Standards Committee (THLPSSC) to discuss the NPRM and its regulatory evaluation. These statutorily-mandated committees advise PHMSA on the technical feasibility, reasonableness, and cost-effectiveness of its proposed regulations. At the December meeting, in accordance with 49 U.S.C. 60102(b)(2)(G), each of the committees voted in favor of adopting all of the proposed standards to be incorporated, but there were additional comments and questions about rework and the impact of PHMSA's proposal to incorporate ASTM D2513-09a with the exception of section 4.2, “Rework Material.” Members were particularly interested in learning more about the manufacturing process and potential contamination during the extrusion process, and in soliciting additional information and opinions from industry experts.

On February 25, 2014, the committees met again. PHMSA presented more information on the topic of rework and regrind issues. Additionally, a panel of experts, including representatives from the National Association of Pipeline Safety Representatives (NAPSR), the AGA, the PPI, and an independent consultant heavily involved with ASTM standards development, provided their perspectives on the topic. All representatives, with the exception of the PPI representative, supported the PHMSA proposal. The PPI suggested an alternative that would limit the use of rework to pipe larger than 2 inches in diameter. Additional comments from the panelists are provided in Section IV of this document.

In February, the TPSSC voted unanimously to recommend that the NPRM, excluding rework issues, was technically feasible, reasonable, practicable, and cost-effective. Prohibiting rework does not affect the liquid industry.

Transcripts from the committee meetings are available in the docket for this rulemaking and in the advisory committees' meeting dockets.

IV. Summary of Comments

PHMSA received comments from nine organizations in response to the NPRM, including: MSS; API; NFPA; Pipeline Plastics, LLC; Southwest Gas Corporation; Chevron Phillips Chemical Company; PPI; and AGA.

At the two advisory committee meetings, comments were also received from the organizations mentioned above, members of the TPSSC and the THLPSSC and from representatives of the Virginia State Corporation Commission and NAPSR. Their comments are summarized below.

A. Miscellaneous Changes

MSS recommended that PHMSA incorporate by reference the 2011 errata to MSS SP-44-2010, Standard Practice, “Steel Pipeline Flanges.” PHMSA agrees with this comment and will include the errata, which contains a minor correction to Table C4 of the standard that corrects the number of bolt holes from 28 to 32 for 42-inch-diameter pipe.

The NFPA representative and a PHMSA staff member noted that in existing § 195.264(b)(1)(i) and (ii), the section references to the standard incorporated by reference, (i.e., NFPA-30 (2012 edition)), were incorrect. Therefore, the section references will change from section 4.3.2.3.2 to section 22.11.1.

The API provided comments on incorporating standards, some of which had not been finalized until after the NPRM was published, and others that were outside the scope of this notice, including: API Std 653, API RP 1162, API RP 1164, and NFPA-70.

B. Comments and Discussion on Rework and Incorporating ASTM D 2513-87, -99, -09a, “Specifications for Thermoplastic Gas Pressure Pipe, Tubing and Fittings” (except section 4.2, “Rework Materials)

• ASTM D2513-87 and -99—The Southwest Gas Corporation recommended that PHMSA eliminate the incorporation by reference of ASTM D2513-87, “Standard Specification for Thermoplastic Gas Pressure Pipe, Tubing, and Fittings” (for non-polyethylene plastic materials only) in §§ 192.7 and 192.63(a)(1) for marking only, in favor of incorporating the 1999 edition of the standard. Southwest indicated that the reference to the 1987 edition was introduced in an earlier amendment to the code at the same time ASTM D1990c was incorporated as an update to the 1987 version. Southwest Gas believed the 1990c version did not require operators to identify certain temperature ratings for fittings, so the 1987 version was retained. With the release of the 1999 edition, the temperature-marking requirement for fittings was restored, so Southwest Gas believed it would be a more appropriate version to use for marking as well.

PHMSA staff recalled that the 1990c edition did not require fittings that were intended for use at elevated temperatures to be marked to identify certain temperature ratings, a requirement that PHMSA believed was beneficial. Therefore, the 1987 edition continued to be referenced for the purpose of marking thermoplastic fittings. With the release of the 1999 edition, however, the marking intervals were increased from 2 feet to 5 feet. PHMSA has decided to retain the 1987 version of ASTM D2513 for purposes of marking of non-polyethylene plastic materials because it requires operators to mark pipe and tubing at intervals of not more than 2 feet. PHMSA prefers this more stringent requirement because the less spacing there is between markings along a pipe, the easier it is to identify the pipe during excavation. A smaller interval also helps reduce the size of the ditch/hole needed for excavation. The more stringent requirement is also present in the 2009a version of ASTM D2513 for polyethylene pipe and fittings, so ASTM D2513-09a will be IBR for purposes of marking PE materials only.

PHMSA has revised § 192.63(a)(1) to clarify that ASTM D2513-87 would continue to apply to the marking of non-PE materials. A specific reference to ASTM D2513-09a is not needed in 192.63(a)(1) to address marking for PE materials because (1) it is already listed in Appendix B to Part 192, and (2) other language in § 192.63(a)(1) already requires each valve, fitting, length of pipe and other component to be marked as prescribed in the specification or standard to which it was manufactured.

• ASTM D 2513-09a (except section 4.2, “Rework Materials”)—The following entities provided comments on the incorporation of ASTM D2513-09a and the proposal to exclude the use of rework materials: AGA; Pipeline Plastics, LLC; PPI and Chevron Phillips Chemical Company. All of these organizations were in favor of incorporating ASTM D2513-09a for PE pipe, but had varying comments on the exclusion of rework materials.

The AGA provided comments to the docket based on input from its Plastic Materials Committee (PMC), which includes operators and plastic pipe manufacturers. Based on discussions within the PMC, the AGA suggested an alternative based on pipe diameter, whereby no rework material would be allowed for pipe 2 inches Iron Pipe Size (IPS) and below in diameter and the requirements in ASTM D2513-09a, section 4.2 would be acceptable for pipe larger than 2 inches IPS in diameter.

The AGA contended that to the extent there are material issues with rework, it is reasonable to believe that the risks are greater with smaller-diameter, thinner-wall pipe, specifically, pipe smaller than 2 inches in diameter. According to AGA, many operators have used the 2-inch diameter as a threshold for prohibiting the use of rework, while others require virgin plastic for all their piping. The AGA suggested that establishing the 2-inch diameter threshold could be a reasonable step as operators and manufacturers continue to seek consensus and discuss the issue within the PMC and with PHMSA.

At the February advisory committee meetings, a member of the TPSSC and a gas operator provided comments on behalf of AGA indicating that, while in previous comments to the docket, the organization had recommended PHMSA adopt an alternative that rework only be allowed for pipe greater than 2 inches in diameter, it now recognized that some of its members now believed there were continued safety concerns with the use of reworked pipe and, in an effort to move forward, the AGA supported the adoption of ASTM D2513-09a without rework. The PPI, a major trade association representing all segments of the plastics pipe industry, and Pipeline Plastics, LLC, a major manufacturer of polyethylene pipe, opposed the exclusion of rework and recommended that ASTM D2513-09a be incorporated in its entirety. These two organizations referred to the Operations Technology Development, NFP ¹ (OTD) company's research Project No. 2.ff (summary version) titled “Evaluation for Impact of Rework” which was referenced in the 2009 standard and PPI Technical Note 30 (TN-30), which concluded that the proper handling and use of rework does not have a negative effect on any of the three performance parameters for PE gas pipe. Therefore, these organizations believe adhering to the 2009 standard and PPI TN-30, which provides guidance for manufacturers and end-users on the safe and proper use of rework, would adequately address rework.

¹ Operations Technology Development (OTD) is a not-for-profit corporation led by 22 members who serve over 28 million natural gas consumers in 27 states and Canada. OTD develops advanced technologies for the natural gas industry; U.S. utilities combined interests, expertise, and resources into focused Research & Development projects.

The PPI and Pipeline Plastics, LLC also contended there could be environmental and cost impacts associated with prohibiting rework. These organizations stated that if rework were prohibited, additional unused plastic could be put in landfills. They also indicated that the unused plastic could be used for other plastic processing operations, such as blow molding.

The PPI estimated that using PE scrap in blow molding rather than regrind in pipe production could potentially increase PE pipe manufacturer costs by $1 million to $3 million annually. This estimate is based on 2013 PPI resin usage (est. 200,000,000 lbs. used in gas distribution pipe production), current market resin pricing data (price differential of $0.10 to $0.15 per pound between pipe grade and blow mold grade resins), and an estimated 5 to 10 percent scrap generation from extrusion.

At the February joint advisory committee meeting, a manufacturer representing PPI raised similar concerns to those raised during the comment period. The following concerns were presented.

○ Cost of gas distribution pipe. The PPI felt that there is no other market in North America for medium-density polyethylene pipe other than gas distribution, the majority of which uses medium density pipe. The PPI stated that all other polyethylene markets use high-density pipe. Therefore, if reworked pipe is not allowed, the cost of the medium-density pipe would be discounted to a non-pressure pipe or commodity product price. This could cause manufacturers to see an inherent loss in value based on scrap levels. Some manufacturers felt the estimated $1 million to $3 million cost impact was low because there is no true alternative market to sell pipe that can't be used for gas transportation. It would not be worth regrinding pipe, transferring that material to another facility and manufacturing something else. The PPI admitted it couldn't share more detailed costs due to anti-trust concerns and, therefore, was unable to give a true number.

○ Eliminating rework won't result in better-quality pipe. PPI expressed the view that eliminating rework won't necessarily result in better-quality pipe and rework doesn't address other sources of contamination. In the PPI's opinion, rework pressures operators and manufacturers to minimize scrap. The PPI also felt there was no true way to test a pipe later to determine whether or not it was manufactured with rework material. If operators required no rework in their specifications, it would be difficult to trace and audit.

○ Oil and gas gathering lines. The PPI indicated it had several members whose pipelines had previously been unregulated but which had now became regulated due to encroaching development. To protect themselves, midstream users are requiring pipe for oil and gas gathering lines to meet ASTM D2513. If rework is not allowed, midstream users will also have to comply. The industry is concerned if reworked pipe is not allowed for oil and gas gathering lines, which is almost half of the total pressure pipe market, there would be an even larger cost impact. Based on their concerns, the PPI suggested an alternative to only prohibit rework in pipes larger than 2 inches in diameter.

Dura-Line, a pipeline manufacture, stated that their company has been rework-free for a full year and that they instead supported the AGA's position to not allow rework. The statement was made for the record that its position was not unanimous among its membership.

Another member of the public stated that while the vote at the PPI was not unanimous, the PPI has a consensus process to follow, and it was the decision of their Energy Piping Systems Committee to move this issue forward in the manner they did. This individual urged support of the PPI recommendation.

Chevron Phillips preferred incorporating ASTM D2513-09a in its entirety but suggested if additional limitations were to be adopted, it would recommend adopting sizing restrictions, such as limiting the use of rework to pipes with wall thicknesses greater than 0.170 inches. They also suggested there could be additional costs associated with prohibiting rework. According to Chevron Phillips, PE gas pipe resins are specifically tailored through processing and additives to yield the highest quality pipe and fitting products. If the rework materials from these products cannot be used in the manufacture of gas pipes, they will be less valuable in alternate products. According to Chevron Phillips, the cost of the raw material is by far the largest contributor to the overall cost of the pipe or fittings, and an increased cost would have to be passed on to the utilities and consumers, which will affect the competitive position of PE gas pipe.

An independent expert discussed his experience with both operators and the standards developing committees, and the extent to which other countries allow rework. He stated that Canada is considering not allowing rework in the Canadian Standards Association (CSA) B137.4, which is the standard similar to ASTM D2513 for polyethylene gas pipe. He also reported that rework is not allowed in France, the Netherlands, Belgium and Korea. The United Kingdom requires that either no rework material be used, or, if it is used, the pipe must be 100 percent reworked material (not a combination). He also acknowledged the ongoing work in ASTM to develop a standard for the proper use of rework and a recent revision to PPI TN-30, both of which he acknowledged are good documents. However, in his opinion, these documents mainly provide good recommendations for material handling. He believed the only true guaranteed means to prevent contamination from rework is not to allow rework in ASTM D2513-09a. He noted that although he is a member of the PPI, he was not in support of the group's position and recommended the advisory committees support the PHMSA proposal regarding adoption of ASTM D2513-09a, with the exception of rework.

An individual from the Virginia State Corporation Commission (speaking on behalf of himself) stated that he had conducted research on the use of rework in the U.S. and in other parts of the world. He expressed concern that PPI TN-30 provides no guidance on cleaning, the verification process, or testing requirements prior to regrind material use, which does not assure that reground material is free from contamination. He also stated that using magnets to attract certain materials is not reliable, as magnets do not attract particles including non-ferrous materials, brass, aluminum and dust. He stated that some pipe might also sit for periods of time with the manufacturer and become oxidized, which causes harm to pipe material. Such oxidized pipe may then be ground up and introduced into the rework process. He added that rework is not allowed for pipe built to American Association of State of Highway Transportation Officials' standards, and that ASTM is currently working on a standard, ASTM WK-37322, where they are looking to the possibility of eliminating the use of rework entirely.

C. Advisory Committees—Action/Q & A

A member from the Iowa Utilities Board asked why some operators require virgin plastic materials while others use the 2-inch measure as explained by AGA. PHMSA explained that the use of virgin plastic or the 2-inch measure is determined on an operator-by-operator basis. A member of the gas committee, representing industry, stated that National Grid uses only virgin material plastic. The selection and use of the material is decided by their materials engineering manager who bases his decision on experience, examination of pipe tested in their lab, and field work. Ultimately, the materials engineering manager was more comfortable with using virgin material.

A member of the liquid committee, representing the Virginia State Corporation Commission, stated that from his experience, companies in Virginia recognize that using virgin materials may not be the real issue at all. Instead, there is more of a concern that there is opportunity for pipe material to be contaminated during the manufacturing process. The plastic pipe manufacturing process is an area where there are few standards.

A member of the gas committee, representing the public from Hartford Steam Boiler, asked how PHMSA would control the implementation of a standard that banned the use of rework but where the pipe was marked as meeting specifications and the industry specification permitted rework material. PHMSA replied that, from a regulatory standpoint, the IBR of ASTM D2513-09a would have a caveat stating the exception to section 4.2 (addressing rework). In addition, a documentation system to trace raw material is required under section 4.3. Therefore, both manufacturers and operators would need to keep adequate records. The ultimate responsibility for verifying the type of pipe actually used would rest with the operator.

A member of the liquid committee provided comments on behalf of NAPSR, stating that the PHMSA presentation adequately described NAPSR's concerns. The member stated that NAPSR feels the ratepayers pay for good pipe that's made of virgin material and should last not just a few years, but, if constructed properly, for the next 100 years. With that, NAPSR was opposed to any use of rework for construction of plastic pipe for gas.

D. PHMSA Position on Rework

At the February advisory committee meetings, a PHMSA staff member provided more background information on rework and described the differences in the three versions of the standards proposed. He also presented additional technical and field perspective on issues surrounding rework itself, as well as applicable requirements or guidance found in ASTM D2513-09a and PPI TN-30. Among the new technical information presented, the PHMSA staff member provided information from several other reports: “Analysis of Microscopic Leaks in Polyethylene Gas Distribution Piping” by Electric Power Research Institute (EPRI); “Electrochemical Treeing in Cable” by Phelps Dodge Cable and Wire Company (January 1978); and “Deterioration of Water Immersed Polyethylene-Coated Wire by Treeing” by Takao Miyashita (IEEE Member) (March 1971).

These reports indicated that rework could potentially be an issue of concern, particularly through breakdown of dielectric properties, the development of pinhole leaks, and static discharge. The PHMSA staff member restated several of the technical issues referenced in the OTD report, “Evaluation of Impact of Rework,” mentioned by several commenters and indicating that rework was not an issue. The PHMSA staff member did acknowledge that none of the reports mentioned thus far was definitive, one way or another. The PHMSA staff member presented information on the extent to which other countries and industries allow rework. Previous comments from manufacturers indicated no other country or industry prohibits rework, and the U.S. (through PHMSA) would be the first to do so. In the United States, the nuclear industry does not allow scrap or regrind material per Code Case N-755. While the Code Case is not directly incorporated under Title 10, in part because plastic is newer to the nuclear industry and there may be some other issues with the Code Case, anyone who wants to use plastic instead of steel in the nuclear industry needs to present technical information to justify the use of plastic. It is typically expected that anyone who wants to use plastic pipe must comply with N-755, including not allowing the use of regrind material.

The electric industry has also experienced poor performance on insulation materials and effects from contamination and has developed better standards and quality-control procedures. A listing of references to additional reports was provided and is available on the meeting Web site and on the docket. For other countries, the PHMSA staff member noted that Canada is considering prohibiting rework through a standard being developed by the CSA. The PHMSA staff member also understood many foreign operators do not allow rework.

After reviewing the comments and materials provided, PHMSA is not convinced there is adequate justification to allow rework materials (section 4.2 of ASTM D2513-09a) for PE pipe at this time. PHMSA believes commenters did not make it clear how incorporating the standard in its entirety for all PE piping would provide an equivalent level of safety or better. It appears there is more evidence indicating that the exclusion of rework would provide increased safety for operators due to the concern of contamination of the materials during the manufacturing process and, therefore, contaminating the new pipe.

Comments received concerning potential costs associated with prohibiting rework entirely may not have taken all relevant factors into account (e.g., how many operators are actually allowing rework materials). PHMSA believes the commenters may have also overestimated the cost impact on manufacturers because the results appear to be based on the assumptions that rework is currently allowed by all pipeline operators. PHMSA has learned however, from comments made by the AGA, NAPSR, and an advisory committee industry member that some operators currently prohibit rework for piping under a certain diameter, with many operators already requiring the use of virgin plastic pipe only. The available data based on industry-wide practices and action costs does not appear to indicate a significant increase in costs to manufacturers or operators.

If some additional costs are incurred to improve quality control and assurance processes, PHMSA believes any improvements in manufacturing quality assurance/quality control are likely to be outweighed by the benefits for pipeline safety.

Some commenters stated reworked material is sometimes used for alternative purposes such as blow molding. The PPI suggested there is no other market for medium-density PE pipe other than gas distribution.

PHMSA believes additional guidance on manufacturing procedures could possibly reduce the amount of scrap used for rework material. The ASTM is currently developing a standard for the proper use of rework, and a recent revision to PPI TN-30 provides good recommendations for materials handling.

While PPI's concerns related to oil and gas gathering lines may have some validity, and there may be a time when more oil and gas gathering lines could become regulated, any such discussions are outside the scope of this rulemaking. PHMSA does, however, commit to engage with the manufacturers and other relevant stakeholders when discussing the use of plastic materials in oil and gas gathering lines.

PHMSA stands by its original proposal to incorporate ASTM D2513-09a for PE pipe and continue to reference ASTM D2513-99 for non-PE plastic pipe but prohibit the use of rework material. PHMSA will also continue to reference ASTM D2513-87 for marking only of non-PE plastic pipe.

V. Public Availability of Standards

All incorporated by reference documents addressed in this rule are available for visual inspection, as required by Section 24 of Public Law 112-90, January 3, 2012, and amended 49 U.S.C. 60102 on January 3, 2013 at the following locations:

—The U.S. Department of Transportation, Pipeline and Hazardous Materials Safety Administration, Office of Pipeline Safety, 1200 New Jersey Avenue SE., Washington, DC 20590-0001 or any of PHMSA's five regional offices (addresses available at: http://www.phmsa.dot.gov/pipeline/about/org);

—The National Archives and Records Administration (NARA), Office of the Federal Register (NF), 8601 Adelphi Road, College Park, MD 20740-6001. For information on the availability of this material at NARA, call 202-741-6030 or go to: http://www.archives.gov/federal-register/code-of-federal-regulations/ibr-locations.html; and

—The respective standards developing organizations (SDO) listed in Parts 192, 193, and 195. If you want to view the standards for free or purchase copies of the standards incorporated by reference, they are available from each of the SDOs listed above and may also be available on the open market. With this rule, the SDO Web sites have been added to the listing of documents incorporated by reference in each part.

VI. Regulatory Analyses and Notices

A. Summary/Legal Authority for This Rulemaking

This final rule is published under the authority of the Federal pipeline safety law (49 U.S.C. 60101 et seq.). Section 60102 authorizes the Secretary of Transportation to issue regulations governing the design, installation, inspection, emergency plans and procedures, testing, construction, extension, operation, replacement, and maintenance of pipeline facilities. Further, Section 60102(l) of the Federal pipeline safety law states that the Secretary shall, to the extent appropriate and practicable, update incorporated industry standards that have been adopted as a part of the Federal pipeline safety regulations. This final rule incorporates by reference two new editions (one partially incorporated) and 21 updated standards of those currently-referenced standards (wholly or in part). In addition, this final rule makes several other miscellaneous and editorial changes to the pipeline safety regulations.

B. Executive Order 12866, Executive Order 13563, and DOT Regulatory Policies and Procedures

This final rule is not considered a significant regulatory action under section 3(f) of Executive Order 12866 (58 FR 51735) and, therefore, was not subject to review by the Office of Management and Budget (OMB). This final rule is considered non-significant under the Regulatory Policies and Procedures of the Department of Transportation (44 FR 11034).

In accordance with the National Technology and Advancement Act of 1995 (“the Act”) and OMB Circular A-119, “Federal Participation in the Development and Use of Voluntary Consensus Standards and in Conformity Assessment Activities,” PHMSA constantly reviews new editions and revisions to relevant standards and publishes a proposed rule every 2 years to incorporate by reference new or updated consensus standards. This practice is consistent with the intent of the Act and OMB directives to avoid the need for developing government-written standards that could potentially result in regulatory conflicts with updated standards and an increased compliance burden on industry. In this final rule, PHMSA also incorporates by reference two new standards, API RP 5LT and ASTM D2513-09a (excluding section 4.2—Rework Material), and updates 21 currently referenced standards and specifications in 49 CFR parts 192, 193, and 195.

According to the annual reports pipeline operators submit to PHMSA, there are over 2,370 entities operating hazardous liquid, natural gas transmission, gathering, distribution systems, and liquefied natural gas facilities as of December 31, 2011. The amendments in this rule should enhance safety and reduce the compliance burden on the regulated industry.

PHMSA estimates the costs of incorporating these standards to be negligible and the net benefits to be high. In fact, industry standards developed and adopted by consensus are largely accepted and followed by the pipeline industry, which assures that the industry is not forced to comply with a number of different standards to accomplish the same safety goal. The majority of pipeline operators already purchase and apply industry standards as part of common business practice.

In addition to incorporating new and updating existing voluntary consensus standards, PHMSA is making non-substantive edits and clarifying regulatory language in certain provisions. Since these editorial changes are relatively minor, this rule would not require pipeline operators to undertake significant new pipeline safety initiatives and would have negligible cost implications. The non-substantive changes will increase the clarity of the pipeline safety regulations, and help improve compliance, and improve the safety of the nation's pipeline systems.

Executive Order 13563 is supplemental to and reaffirms the principles, structures, and definitions governing regulatory review that were established in Executive Order 12866, Regulatory Planning and Review, of September 30, 1993. Additionally, Executive Order 13563 specifically requires agencies to: (1) Involve the public in the regulatory process; (2) promote simplification and harmonization through interagency coordination; (3) identify and consider regulatory approaches that reduce burden and maintain flexibility; (4) ensure the objectivity of any scientific or technological information used to support regulatory action; and (5) consider how to best promote retrospective analysis to modify, streamline, expand, or repeal existing rules that are outmoded, ineffective, insufficient, or excessively burdensome.

When developing this rule, PHMSA involved the public in the regulatory process in a variety of ways. Specifically, PHMSA addressed issues and errors that were identified and tagged for future rulemaking consideration in letters from the regulated community and through meetings and correspondence with stakeholders. PHMSA considered public comments based on the proposals in the NPRM, addressed those comments in the docket, and discussed the proposals with the members of its two advisory committees and public representatives in attendance.

These standards are expected to produce a safety benefit derived from new requirements with minimal additional costs.

C. Executive Order 13132

PHMSA analyzed this final rule in accordance with the principles and criteria contained in Executive Order 13132 (“Federalism”). The final rule does not have a substantial direct effect on the states, the relationship between the national government and the states, or the distribution of power and responsibilities among the various levels of government. The final rule does not impose substantial direct compliance costs on state and local governments nor will it preempt state law for intrastate pipelines. Therefore, the consultation and funding requirements of Executive Order 13132 do not apply.

D. Executive Order 13175

PHMSA analyzed the final rule according to Executive Order 13175, “Consultation and Coordination with Indian Tribal Governments.” Because the final rule does not significantly or uniquely affect the communities of the Indian Tribal Governments or impose substantial direct compliance costs, the funding and consultation requirements of Executive Order 13175 do not apply.

E. Regulatory Flexibility Act, Executive Order 13272 and DOT Procedures and Policies

The Regulatory Flexibility Act (5 U.S.C. 601 et seq.), requires an agency to review regulations to assess their impact on small entities, unless the agency determines the rule is not expected to have a significant impact on a substantial number of small entities. An example of a small business may include technical experts from a publicly owned natural gas local distribution company.

Technical committees that develop codes and standards are, for the most part, comprised of experts representing the various facets of a given industry, such as manufacturers, installers, insurers, inspectors, end users, distributors and regulatory agencies. Participants represent both large and small businesses and others. An example of the make-up of a typical standards committee may include representatives (engineers, researchers, or risk management officers) from large and small operating companies, government members (Federal/state), risk management consultants, insurance administrators, academics and individuals. Meetings are open to the public. The committees involved in developing, revising, and approving consensus standards created by organizations such as the API or AGA include technical experts, operating companies, vendors, consultants, academics, and regulators.

The impact of this final rule will not have a significant impact on compliance cost regardless of the size of the firm. The changes update current editions of industry standards to allow for the use of newer or updated safety procedures to promote uniformity among industry practices. Changes in standards employing performance-based approaches have resulted in fewer costly changes to an organization's manufacturing processes.

Consideration of alternative proposals for small businesses: The Regulatory Flexibility Act directs agencies to establish expectations and differing compliance standards for small businesses, where it is possible to do so, while still meeting the objectives of applicable regulatory statutes. In the case of hazardous liquid, natural gas and other types of materials transported by pipeline, any exceptions are considered during the rulemaking process. For the most part, differing standards are not possible due to the type of technical requirements covered by these standards. The impact of this final rule will be minimal. The changes are intended to provide industry guidance through adoption of newer editions of consensus standards and recommended practices.

Based on the facts available about the anticipated impact of this rulemaking, I certify, under Section 605 of the Regulatory Flexibility Act (5 U.S.C. 605), that this final rule will not have a significant economic impact on a substantial number of small entities.

F. Paperwork Reduction Act

This final rule does not impose any new information collection requirements.

G. Regulation Identifier Number

A regulation identifier number (RIN) is assigned to each regulatory action listed in the Unified Agenda of Federal Regulations. The Regulatory Information Service Center publishes the Unified Agenda in April and October of each year. The RIN number contained in the heading of this document can be used to cross-reference this action with the Unified Agenda.

H. Unfunded Mandates Reform Act of 1995

This final rule will not impose unfunded mandates under the Unfunded Mandates Reform Act of 1995. It will not result in costs of $100 million (adjusted for inflation currently estimated to be $132 million) or more in any one year to either state, local or tribal governments, in the aggregate, or to the private sector, and would be the least burdensome alternative that achieves the objective of this final rule.

I. Privacy Act Statement

Anyone may search the electronic form of comments received in response to any of our dockets by the name of the individual submitting the comment (or signing the comment if submitted for an association, business, labor union, etc.). You may review DOT's complete Privacy Act Statement in the Federal Register published on April 11, 2000 (65 FR 19477), or you may visit http://docketsinfo.dot.gov/.

J. Environmental Assessment

The National Environmental Policy Act of 1969, 42 U.S.C. 4321-4375, requires Federal agencies to analyze proposed actions to determine whether the action will have a significant impact on the human environment. The Council on Environmental Quality regulations require Federal agencies to conduct an environmental review considering: (1) The need for the proposed action; (2) alternatives to the proposed action; (3) probable environmental impacts of the proposed action and alternatives; and (4) the agencies and persons consulted during the consideration process (40 CFR 1508.9(b)). In this final rule, PHMSA incorporates two new standards (one partially) and incorporates 21 updated standards of those currently referenced. This final rule also makes miscellaneous and editorial changes to the pipeline safety regulations.

Description of Action: The National Technology Transfer and Advancement Act of 1995 directs Federal agencies to use voluntary consensus standards and design specifications developed by voluntary consensus standard bodies instead of government-developed voluntary technical standards, when applicable. There are currently 64 standards incorporated by reference in Parts 192, 193 and 195 of the pipeline safety regulations.

PHMSA engineers and subject matter experts participate on approximately 25 standards development committees to keep current on committee actions. PHMSA will only propose to adopt standards into the Federal regulations that meet the agency's directive(s) to ensure the best interests of public and environmental safety are served.

Purpose and Need: Many of the industry standards currently incorporated by reference in the pipeline safety regulations have been revised and updated to incorporate and promote new technologies and methodologies. This final rule will allow operators to use new technologies by incorporating new editions of the standards into the pipeline safety regulations.

PHMSA's technical experts continually review the actions of pipeline standards developing committees and study industry safety practices to ensure that their endorsement of any new editions or revised standards incorporated into the Federal safety regulations will improve public safety, as well as provide protection for the environment. If PHMSA does not amend the Federal safety standards to keep up with industry practices, it could potentially have an adverse effect on the transportation of energy resources.

These amendments will make the regulatory provisions more consistent with current technology and will therefore promote the safe transportation of hazardous liquids, natural and other gases and liquefied natural gas by pipeline.

Alternatives Considered: In developing this final rule, PHMSA considered two alternatives:

Alternative (1): Take no action and continue to incorporate the existing standards currently referenced in the pipeline safety regulations.

Because PHMSA's goal is to facilitate pipeline safety, PHMSA rejected the alternative to take no action.

Alternative (2): Go forward with the proposed amendments and incorporate updated editions of voluntary consensus standards to allow pipeline operators to use current technologies. This is the selected alternative.

PHMSA's goal is to incorporate by reference all or parts of updated editions of voluntary consensus standards into the pipeline safety regulations to allow pipeline operators to use current technology, new materials, and other industry and management practices. Another goal is to update and clarify certain provisions in the regulations.

Environmental Consequences: The Nation's pipelines are located throughout the United States, both onshore and offshore, and traverse a variety of environments—from highly populated urban sites to remote, unpopulated rural areas. The Federal pipeline regulatory system is a risk management system that is prevention-oriented and focused on identifying safety hazards and reducing the probability and quantity of a natural gas or hazardous liquid release. Pipeline operators are required to develop and implement IM programs to enhance safety by identifying and reducing pipeline integrity risks.

Pipelines subject to this final rule transport hazardous liquids and natural gas, and therefore a spill or leak of the product could affect the physical environment as well as the health and safety of the public. The release of hazardous liquids or natural gas can cause the loss of cultural and historical resources (e.g., properties listed on the National Register of Historic Places), biological and ecological resources (e.g., coastal zones, wetlands, plant and animal species and their habitats, forests, grasslands, offshore marine ecosystems), special ecological resources (e.g., threatened and endangered plant and animal species and their habitats, national and state parklands, biological reserves, wild and scenic rivers), and the contamination of air, water resources (e.g., oceans, streams, lakes), and soil that exist directly adjacent to and within the vicinity of pipelines. Incidents involving pipelines can result in fires and explosions, causing damage to the local environment. Depending on the size of a spill or gas leak and the nature of the failure zone, the potential impacts could vary from property damage or environmental damage, injuries or, on rare occasions, fatalities.

Compliance with the pipeline safety regulations substantially reduces the possibility of an accidental release of product. Updating new industry standards or those already incorporated into the pipeline safety regulations provides operators with the advantage and added safety of applying newer technologies. These standards are based on the accumulated knowledge and experience of owners, operators, manufacturers, risk management experts and others involved in the pipeline industry or government agencies who write the regulations to ensure the products are moved safely throughout the country. PHMSA staff actively participates in the standards development process to ensure each standard incorporated will enhance safety and environmental protection. Newer editions are not automatically incorporated but reviewed in detail. PHMSA reviewed each of the standards described in this rule and have determined that the majority of the updates include nearly minor changes such as editorial changes, inclusion of a best practices, or similar changes.

The discussion of the standards PHMSA has chosen not to incorporate at this time or that are to be partial incorporated is included under section II of this rule.

Conclusion—Degree of Environmental Impact: PHMSA incorporates consensus standards that will allow the pipeline industry to use improved technologies, new materials, performance-based approaches, manufacturing processes, or other practices to enhance public health, safety and welfare. PHMSA's goal is to ensure hazardous liquids, natural and other gases and liquefied natural gas transported by pipeline will arrive safely to its destination.

PHMSA has determined that the selected alternative will not have a significant impact on the environment.

K. Executive Order 13211

Transporting gas and petroleum affects the Nation's available energy supply. However, this final rule would not be a significant energy action under Executive Order 13211. It also would not be a significant regulatory action under Executive Order 12866 and would not likely have a significant adverse effect on the supply, distribution, or use of energy. Further, the Administrator of the Office of Information and Regulatory Affairs would not be likely to identify this final rule as a significant energy action.

List of Subjects

49 CFR Part 192

Incorporation by reference, Natural gas, Pipeline safety.

49 CFR Part 193

Incorporation by reference, Liquefied natural gas, Pipeline safety.

49 CFR Part 195

Anhydrous ammonia, Carbon dioxide, Incorporation by reference, Petroleum pipeline safety.

49 CFR Part 198

Grant programs—transportation, Pipeline safety, Reporting and recordkeeping requirements.

49 CFR Part 199

Drug and alcohol testing.

In consideration of the foregoing, PHMSA amends 49 CFR parts 192, 193, 195, 198, and 199 as follows:

PART 192—TRANSPORTATION OF NATURAL AND OTHER GAS BY PIPELINE: MINIMUM FEDERAL SAFETY STANDARDS

1. The authority citation for Part 192 continues to read as follows:

Authority: 49 U.S.C. 5103, 60102, 60104, 60108, 60109, 60110, 60113, 60116, 60118 and 60137; and 49 CFR 1.97.

§§ 192.923, 192.925, 192.931, 192.935, 192.939 [Amended]

2. In 49 CFR part 192, remove the term “NACE SP0502-2008” and add in its place “NACE SP0502” everywhere it appears in the following sections:

a. Section 192.923(b)(1);

b. Section 192.925(b) introductory text;

c. Section 192.925(b)(1) introductory text;

d. Section 192.925(b)(1)(ii);

e. Section 192.925(b)(2) introductory text;

f. Section 192.925(b)(3) introductory text;

g. Section 192.925(b)(3)(ii)(A);

h. Section 192.925(b)(3)(ii)(B);

i. Section 192.925(b)(3)(iv);

j. Section 192.925(b)(4) introductory text;

k. Section 192.925(b)(4)(ii);

l. Section 192.931(d);

m. Section 192.935(b)(1)(iv);

n. Section 192.939(a)(2).

3. Section 192.7 is revised to read as follows:

§ 192.7 What documents are incorporated by reference partly or wholly in this part?

(a) This part prescribes standards, or portions thereof, incorporated by reference into this part with the approval of the Director of the Federal Register in 5 U.S.C. 552(a) and 1 CFR part 51. The materials listed in this section have the full force of law. To enforce any edition other than that specified in this section, PHMSA must publish a notice of change in the Federal Register.

(1) Availability of standards incorporated by reference. All of the materials incorporated by reference are available for inspection from several sources, including the following:

(i) The Office of Pipeline Safety, Pipeline and Hazardous Materials Safety Administration, 1200 New Jersey Avenue SE., Washington, DC 20590. For more information contact 202-366-4046 or go to the PHMSA Web site at: http://www.phmsa.dot.gov/pipeline/regs.

(ii) The National Archives and Records Administration (NARA). For information on the availability of this material at NARA, call 202-741-6030 or go to the NARA Web site at: http://www.archives.gov/federal_register/code_of_federal_regulations/ibr_locations.html.

(iii) Copies of standards incorporated by reference in this part can also be purchased or are otherwise made available from the respective standards-developing organization at the addresses provided in the centralized IBR section below.

(2) [Reserved]

(b) American Petroleum Institute (API), 1220 L Street NW., Washington, DC 20005, phone: 202-682-8000, http://api.org/.

(1) API Recommended Practice 5L1, “Recommended Practice for Railroad Transportation of Line Pipe,” 7th edition, September 2009, (API RP 5L1), IBR approved for § 192.65(a).

(2) API Recommended Practice 5LT, “Recommended Practice for Truck Transportation of Line Pipe,” First edition, March 2012, (API RP 5LT), IBR approved for § 192.65(c).

(3) API Recommended Practice 5LW, “Recommended Practice for Transportation of Line Pipe on Barges and Marine Vessels,” 3rd edition, September 2009, (API RP 5LW), IBR approved for § 192.65(b).

(4) API Recommended Practice 80, “Guidelines for the Definition of Onshore Gas Gathering Lines,” 1st edition, April 2000, (API RP 80), IBR approved for § 192.8(a).

(5) API Recommended Practice 1162, “Public Awareness Programs for Pipeline Operators,” 1st edition, December 2003, (API RP 1162), IBR approved for § 192.616(a), (b), and (c).

(6) API Recommended Practice 1165, “Recommended Practice for Pipeline SCADA Displays,” First edition, January 2007, (API RP 1165), IBR approved for § 192.631(c).

(7) API Specification 5L, “Specification for Line Pipe,” 45th edition, effective July 1, 2013, (API Spec 5L), IBR approved for §§ 192.55(e); 192.112(a), (b), (d), (e); 192.113; and Item I, Appendix B to Part 192.

(8) ANSI/API Specification 6D, “Specification for Pipeline Valves,”23rd edition, effective October 1, 2008, including Errata 1 (June 2008), Errata2 (/November 2008), Errata 3 (February 2009), Errata 4 (April 2010), Errata 5 (November 2010), Errata 6 (August 2011) Addendum 1 (October 2009), Addendum 2 (August 2011), and Addendum 3 (October 2012), (ANSI/API Spec 6D), IBR approved for § 192.145(a).

(9) API Standard 1104, “Welding of Pipelines and Related Facilities,” 20th edition, October 2005, including errata/addendum (July 2007) and errata 2 (2008), (API Std 1104), IBR approved for §§ 192.225(a); 192.227(a); 192.229(c); 192.241(c); and Item II, Appendix B.

(c) ASME International (ASME), Three Park Avenue, New York, NY 10016, 800-843-2763 (U.S./Canada), http://www.asme.org/.

(1) ASME/ANSI B16.1-2005, “Gray Iron Pipe Flanges and Flanged Fittings: (Classes 25, 125, and 250),” August 31, 2006, (ASME/ANSI B16.1), IBR approved for § 192.147(c).

(2) ASME/ANSI B16.5-2003, “Pipe Flanges and Flanged Fittings, “October 2004, (ASME/ANSI B16.5), IBR approved for §§ 192.147(a) and 192.279.

(3) ASME/ANSI B31G-1991 (Reaffirmed 2004), “Manual for Determining the Remaining Strength of Corroded Pipelines,” 2004, (ASME/ANSI B31G), IBR approved for §§ 192.485(c) and 192.933(a).

(4) ASME/ANSI B31.8-2007, “Gas Transmission and Distribution Piping Systems,” November 30, 2007, (ASME/ANSI B31.8), IBR approved for §§ 192.112(b) and 192.619(a).

(5) ASME/ANSI B31.8S-2004, “Supplement to B31.8 on Managing System Integrity of Gas Pipelines,” 2004, (ASME/ANSI B31.8S-2004), IBR approved for §§ 192.903 note to Potential impact radius; 192.907 introductory text, (b); 192.911 introductory text, (i), (k), (l), (m); 192.913(a), (b), (c); 192.917 (a), (b), (c), (d), (e); 192.921(a); 192.923(b); 192.925(b); 192.927(b), (c); 192.929(b); 192.933(c), (d); 192.935 (a), (b); 192.937(c); 192.939(a); and 192.945(a).

(6) ASME Boiler & Pressure Vessel Code, Section I, “Rules for Construction of Power Boilers 2007,” 2007 edition, July 1, 2007, (ASME BPVC, Section I), IBR approved for § 192.153(b).

(7) ASME Boiler & Pressure Vessel Code, Section VIII, Division 1 “Rules for Construction of Pressure Vessels,” 2007 edition, July 1, 2007, (ASME BPVC, Section VIII, Division 1), IBR approved for §§ 192.153(a), (b), (d); and 192.165(b).

(8) ASME Boiler & Pressure Vessel Code, Section VIII, Division 2 “Alternate Rules, Rules for Construction of Pressure Vessels,” 2007 edition, July 1, 2007, (ASME BPVC, Section VIII, Division 2), IBR approved for §§ 192.153(b), (d); and 192.165(b).

(9) ASME Boiler & Pressure Vessel Code, Section IX: “Qualification Standard for Welding and Brazing Procedures, Welders, Brazers, and Welding and Brazing Operators,” 2007 edition, July 1, 2007, ASME BPVC, Section IX, IBR approved for §§ 192.225(a); 192.227(a); and Item II, Appendix B to Part 192.

(d) American Society for Testing and Materials (ASTM), 100 Barr Harbor Drive, PO Box C700, West Conshohocken, PA 19428, phone: (610) 832-9585, Web site: http://www.astm.org/.

(1) ASTM A53/A53M-10, “Standard Specification for Pipe, Steel, Black and Hot-Dipped, Zinc-Coated, Welded and Seamless,” approved October 1, 2010, (ASTM A53/A53M), IBR approved for § 192.113; and Item II, Appendix B to Part 192.

(2) ASTM A106/A106M-10, “Standard Specification for Seamless Carbon Steel Pipe for High-Temperature Service,” approved October 1, 2010, (ASTM A106/A106M), IBR approved for § 192.113; and Item I, Appendix B to Part 192.

(3) ASTM A333/A333M-11, “Standard Specification for Seamless and Welded Steel Pipe for Low-Temperature Service,” approved April 1, 2011, (ASTM A333/A333M), IBR approved for § 192.113; and Item I, Appendix B to Part 192.

(4) ASTM A372/A372M-10, “Standard Specification for Carbon and Alloy Steel Forgings for Thin-Walled Pressure Vessels,” approved October 1, 2010, (ASTM A372/A372M), IBR approved for § 192.177(b).

(5) ASTM A381-96 (reapproved 2005), “Standard Specification for Metal-Arc Welded Steel Pipe for Use with High-Pressure Transmission Systems,” approved October 1, 2005, (ASTM A381), IBR approved for § 192.113; and Item I, Appendix B to Part 192.

(6) ASTM A578/A578M-96 (reapproved 2001), “Standard Specification for Straight-Beam Ultrasonic Examination of Plain and Clad Steel Plates for Special Applications,” (ASTM A578/A578M), IBR approved for § 192.112(c).

(7) ASTM A671/A671M-10, “Standard Specification for Electric-Fusion-Welded Steel Pipe for Atmospheric and Lower Temperatures,” approved April 1, 2010, (ASTM A671/A671M), IBR approved for § 192.113; and Item I, Appendix B to Part 192.

(8) ASTM A672/A672M-09, “Standard Specification for Electric-Fusion-Welded Steel Pipe for High-Pressure Service at Moderate Temperatures,” approved October 1, 2009, (ASTM A672/672M), IBR approved for § 192.113 and Item I, Appendix B to Part 192.

(9) ASTM A691/A691M-09, “Standard Specification for Carbon and Alloy Steel Pipe, Electric-Fusion-Welded for High-Pressure Service at High Temperatures,” approved October 1, 2009, (ASTM A691/A691M), IBR approved for § 192.113 and Item I, Appendix B to Part 192.

(10) ASTM D638-03, “Standard Test Method for Tensile Properties of Plastics,” 2003, (ASTM D638), IBR approved for § 192.283(a) and (b).

(11) ASTM D2513-87, “Standard Specification for Thermoplastic Gas Pressure Pipe, Tubing, and Fittings,” (ASTM D2513-87), IBR approved for § 192.63(a).

(12) ASTM D2513-99, “Standard Specification for Thermoplastic Gas Pressure Pipe, Tubing, and Fittings,” (ASTM D 2513-99), IBR approved for §§ 192.191(b); 192.281(b); 192.283(a) and Item 1, Appendix B to Part 192.

(13) ASTM D2513-09a, “Standard Specification for Polyethylene (PE) Gas Pressure Pipe, Tubing, and Fittings,” approved December 1, 2009, (ASTM D2513-09a), IBR approved for §§ 192.123(e); 192.191(b); 192.283(a); and Item 1, Appendix B to Part 192.

(14) ASTM D2517-00, “Standard Specification for Reinforced Epoxy Resin Gas Pressure Pipe and Fittings,” (ASTM D 2517), IBR approved for §§ 192.191(a); 192.281(d); 192.283(a); and Item I, Appendix B to Part 192.

(15) ASTM F1055-1998, “Standard Specification for Electrofusion Type Polyethylene Fittings for Outside Diameter Controller Polyethylene Pipe and Tubing,” (ASTM F1055), IBR approved for § 192.283(a).

(e) Gas Technology Institute (GTI), formerly the Gas Research Institute (GRI)), 1700 S. Mount Prospect Road, Des Plaines, IL 60018, phone: 847-768-0500, Web site: www.gastechnology.org.

(1) GRI 02/0057 (2002) “Internal Corrosion Direct Assessment of Gas Transmission Pipelines Methodology,” (GRI 02/0057), IBR approved for § 192.927(c).

(2) [Reserved]

(f) Manufacturers Standardization Society of the Valve and Fittings Industry, Inc. (MSS), 127 Park St. NE., Vienna, VA 22180, phone: 703-281-6613, Web site: http://www.mss-hq.org/.

(1) MSS SP-44-2010, Standard Practice, “Steel Pipeline Flanges,” 2010 edition, (including Errata (May 20, 2011)), (MSS SP-44), IBR approved for § 192.147(a).

(2) [Reserved]

(g) NACE International (NACE), 1440 South Creek Drive, Houston, TX 77084: phone: 281-228-6223 or 800-797-6223, Web site: http://www.nace.org/Publications/.

(1) ANSI/NACE SP0502-2010, Standard Practice, “Pipeline External Corrosion Direct Assessment Methodology,” revised June 24, 2010, (NACE SP0502), IBR approved for §§ 192.923(b); 192.925(b); 192.931(d); 192.935(b) and 192.939(a).

(2) [Reserved]

(h) National Fire Protection Association (NFPA), 1 Batterymarch Park, Quincy, Massachusetts 02169, phone: 1 617 984-7275, Web site: http://www.nfpa.org/.

(1) NFPA-30 (2012), “Flammable and Combustible Liquids Code,” 2012 edition, June 20, 2011, including Errata 30-12-1 (September 27, 2011) and Errata 30-12-2 (November 14, 2011), (NFPA-30), IBR approved for § 192.735(b).

(2) NFPA-58 (2004), “Liquefied Petroleum Gas Code (LP-Gas Code),” (NFPA-58), IBR approved for § 192.11(a), (b), and (c).

(3) NFPA-59 (2004), “Utility LP-Gas Plant Code,” (NFPA-59), IBR approved for § 192.11(a), (b); and (c).

(4) NFPA-70 (2011), “National Electrical Code,” 2011 edition, issued August 5, 2010, (NFPA-70), IBR approved for §§ 192.163(e); and 192.189(c).

(i) Pipeline Research Council International, Inc. (PRCI), c/o Technical Toolboxes, 3801 Kirby Drive, Suite 520, P.O. Box 980550, Houston, TX 77098, phone: 713-630-0505, toll free: 866-866-6766, Web site: http://www.ttoolboxes.com/. (Contract number PR-3-805.)

(1) AGA, Pipeline Research Committee Project, PR-3-805, “A Modified Criterion for Evaluating the Remaining Strength of Corroded Pipe,” (December 22, 1989), (PRCI PR-3-805 (R-STRENG)), IBR approved for §§ 192.485(c); 192.933(a) and (d).

(2) [Reserved]

(j) Plastics Pipe Institute, Inc. (PPI), 105 Decker Court, Suite 825 Irving TX 75062, phone: 469-499-1044, http://www.plasticpipe.org/.

(1) PPI TR-3/2008 HDB/HDS/PDB/SDB/MRS Policies (2008), “Policies and Procedures for Developing Hydrostatic Design Basis (HDB), Pressure Design Basis (PDB), Strength Design Basis (SDB), and Minimum Required Strength (MRS) Ratings for Thermoplastic Piping Materials or Pipe, ” May 2008, IBR approved for § 192.121.

(2) [Reserved]

§ 192.11 [Amended]

4. In § 192.11:

a. Amend paragraph (a) by removing the term “ANSI/NFPA 58 and 59” and adding in its place the term “NFPA 58 and 59 (incorporated by reference, see § 192.7)”.

b. Amend paragraph (c) by removing the term “ANSI/NFPA 58 and 59, ANSI/NFPA 58 and 59” and adding in its place the term “NFPA 58 and 59 (incorporated by reference, see § 192.7), NFPA 58 and 59”.

§ 192.55 [Amended]

5. In § 192.55, amend paragraph (e) by removing the term “API Specification 5L” and adding in its place the term “API Spec 5L “(incorporated by reference, see § 192.7)”.

6. In § 192.59, paragraph (d) is added to read as follows:

§ 192.59 Plastic pipe.

* * * * *

(d) Rework and/or regrind material is not allowed in plastic pipe produced after March 6, 2015 used under this part.

7. In § 192.63, paragraph (a)(1) is revised to read as follows:

§ 192.63 Marking of materials.

(a) * * *

(1) As prescribed in the specification or standard to which it was manufactured, except that thermoplastic pipe and fittings made of plastic materials other than polyethylene must be marked in accordance with ASTM D2513-87 (incorporated by reference, see § 192.7);

* * * * *

8. Amend § 192.65 as follows:

a. In paragraph (a)(1), remove the term “API Recommended Practice 5L1” and add in its place the term “API RP 5L1”.

b. In paragraph (b), remove the term “API Recommended Practice 5LW” and add in its place the term “API RP 5LW”.

c. Add a new paragraph (c) to read as follows:

§ 192.65 Transportation of pipe.

* * * * *

(c) Truck. In a pipeline to be operated at a hoop stress of 20 percent or more of SMYS, an operator may not use pipe having an outer diameter to wall thickness ratio of 70 to 1, or more, that is transported by truck unless the transportation is performed in accordance with API RP 5LT (incorporated by reference, see § 192.7).

§ 192.112 [Amended]

9. Amend § 192.112:

a. In paragraphs (a)(4), (b)(1)(i), (b)(1)(iii), (d)(1), and (e)(1) by removing the term “API Specification 5L” and adding in its place the term “API Spec 5L”.

b. In paragraph (c)(2)(i) by removing the term, “API 5L” and adding in its place the term “API Spec 5L”.

§ 192.113 [Amended]

10. In the Table of § 192.113, remove the term “API 5 L” and add in its place the term “API Spec 5L”.

§ 192.123 [Amended]

11. In § 192.123, revise paragraph (e)(2) to read as follows:

§ 192.123 Design limitations for plastic pipe.

* * * * *

(e) * * *

(2) The material is a polyethylene (PE) pipe with the designation code as specified within ASTM D2513-09a (incorporated by reference, see § 192.7);

* * * * *

§ 192.145 [Amended]

12. Amend § 192.145 paragraph (a) by removing the term “API 6D” and adding in its place the term “ANSI/API Spec 6D”.

§ 192.147 [Amended]

13. Amend § 192.147 as follows:

a. In paragraph (a), remove the phrase “ASME/ANSI B 16.5, MSS SP-44” and add in its place the phrase “ASME/ANSI B 16.5 and MSS SP-44 (incorporated by reference, see § 192.7)”.

b. In paragraph (c), remove the term “ASME/ANSI B16.1” and add in its place the term “ASME/ANSI B16.1 (incorporated by reference, see § 192.7)”.

14. In § 192.153, revise paragraphs (a), (b), and (d) to read as follows:

§ 192.153 Components fabricated by welding.

(a) Except for branch connections and assemblies of standard pipe and fittings joined by circumferential welds, the design pressure of each component fabricated by welding, whose strength cannot be determined, must be established in accordance with paragraph UG-101 of the ASME Boiler and Pressure Vessel Code (BPVC) (Section VIII, Division 1) (incorporated by reference, see § 192.7).

(b) Each prefabricated unit that uses plate and longitudinal seams must be designed, constructed, and tested in accordance with section 1 of the ASME BPVC (Section VIII, Division 1 or Section VIII, Division 2) (incorporated by reference, see § 192.7), except for the following:

* * * * *

(d) Except for flat closures designed in accordance with the ASME BPVC (Section VIII, Division 1 or 2), flat closures and fish tails may not be used on pipe that either operates at 100 p.s.i. (689 kPa) gage or more, or is more than 3 inches in (76 millimeters) nominal diameter.

§ 192.163 [Amended]

15. Amend § 192.163 paragraph (e) by removing the term “National Electrical Code, ANSI/NFPA 70” and adding in its place “NFPA-70”.

§ 192.165 [Amended]

16. Amend § 192.165 paragraph (b)(3) by removing the term “ASME Boiler and Pressure Vessel Code” and adding in its place the term “ASME Boiler and Pressure Vessel Code (BPVC) (incorporated by reference, see § 192.7)”.

§ 192.177 [Amended]

17. Amend § 192.177 paragraph (b)(1) by removing the term “ASTM A 372/372” and adding in its place the term “ASTM A372/372M (incorporated by reference, see § 192.7)”.

§ 192.189 [Amended]

18. Amend § 192.189 paragraph (c) by removing the reference “ANSI/NFPA 70” and adding in its place the term “NFPA-70 (incorporated by reference, see § 192.7)”.

§ 192.191 [Amended]

19. In § 192.191, paragraph (b) is revised to read as follows:

§ 192.191 Design pressure of plastic fittings.

* * * * *

(b) Thermoplastic fittings for plastic pipe must conform to ASTM D2513-99 for plastic materials other than polyethylene or ASTM D2513-09a for polyethylene plastic materials.

§ 192.225 [Amended]

20. Amend § 192.225, paragraph (a) is amended as follows:

a. Remove the term “API 1104” and add in its place the term “API Std 1104”.

b. Remove the term “ASME Boiler and Pressure Vessel Code, `Welding and Brazing Qualifications'” and add in its place the term “ASME Boiler and Pressure Vessel Code (BPVC)”.

§ 192.227 [Amended]

21. In § 192.227, paragraph (a) is amended as follows:

a. Remove the term “API 1104” and add in its place the term “API Std 1104”.

b. Remove the term “ASME Boiler and Pressure Vessel Code” and add in its place the term “ASME Boiler and Pressure Vessel Code (BPVC)”.

§ 192.229 [Amended]

22. Amend § 192.229 paragraph (c)(1) by removing the term “API Standard 1104” and adding in its place the term “API Std 1104”.

§ 192.241 [Amended]

23. Amend § 192.241 paragraph (c) by removing the terms “API Standard 1104” and “API 1104” and adding in their place the term “API Std 1104”.

§ 192.281 [Amended]

24. Amend § 192.281 paragraph (d)(1) by removing the term “ASTM Designation D 2517” and adding in its place the term “ASTM D 2517 (incorporated by reference, see § 192.7)”.

25. Amend § 192.283 as follows:

a. Revise paragraph (a)(1)(i) to read as set forth below.

b. Amend paragraph (a)(1)(iii) by removing the term “ASTM Designation F1055 (incorporated by reference, see § 192.7)” and adding in its place the term “ASTM F1055 (incorporated by reference, see § 192.7)”.

§ 192.283 Plastic pipe: Qualifying joining procedures.

(a) * * *

(1) * * *

(i) In the case of thermoplastic pipe, paragraph 6.6 (Sustained Pressure Test) or paragraph 6.7 (Minimum Hydrostatic Burst Test) of ASTM D2513-99 for plastic materials other than polyethylene or ASTM D2513-09a (incorporated by reference, see § 192.7) for polyethylene plastic materials;

* * * * *

§ 192.485 [Amended]

26. Amend § 192.485 paragraph (c) as follows:

a. Remove the term “ASME/ANSI B31G” and add in its place the term “ASME/ANSI B31G (incorporated by reference, see § 192.7)”.

b. Remove the term “AGA Pipeline Research Committee Project PR 3-805 (with RSTRENG disk)” and add in its place the term “PRCI PR 3-805 (R-STRENG) (incorporated by reference, see § 192.7)”.

§ 192.735 [Amended]

27. Amend § 192.735 paragraph (b) by removing the term “National Fire Protection Association Standard No. 30” and adding in its place the term “NFPA-30 (incorporated by reference, see § 192.7)”.

§ 192.903 [Amended]

28. Amend the Note to Potential impact radius in § 192.903 by removing the term “ASME/ANSI B31.8S-2001 (Supplement to ASME B31.8; incorporated by reference, see § 192.7)” and adding in its place the term “ASME/ANSI B31.8S (incorporated by reference, see § 192.7)”.

29. In § 192.923, paragraphs (a) and (b) are revised to read as follows:

§ 192.923 How is direct assessment used and for what threats?

(a) General. An operator may use direct assessment either as a primary assessment method or as a supplement to the other assessment methods allowed under this subpart. An operator may only use direct assessment as the primary assessment method to address the identified threats of external corrosion (EC), internal corrosion (IC), and stress corrosion cracking (SCC).

(b) Primary method. An operator using direct assessment as a primary assessment method must have a plan that complies with the requirements in—

(1) Section 192.925 and ASME/ANSI B31.8S (incorporated by reference, see § 192.7) section 6.4, and NACE SP0502 (incorporated by reference, see § 192.7), if addressing external corrosion (EC).

(2) Section 192.927 and ASME/ANSI B31.8S (incorporated by reference, see § 192.7), section 6.4, appendix B2, if addressing internal corrosion (IC).

(3) Section 192.929 and ASME/ANSI B31.8S (incorporated by reference, see § 192.7), appendix A3, if addressing stress corrosion cracking (SCC).

* * * * *

30. In § 192.933, revise paragraphs (a)(1) and (d)(1)(i) to read as follows:

§ 192.933 What actions must be taken to address integrity issues?

(a) * * *

(1) Temporary pressure reduction. If an operator is unable to respond within the time limits for certain conditions specified in this section, the operator must temporarily reduce the operating pressure of the pipeline or take other action that ensures the safety of the covered segment. An operator must determine any temporary reduction in operating pressure required by this section using ASME/ANSI B31G (incorporated by reference, see § 192.7); Pipeline Research Council, International, PR-3-805 (R-STRENG) (incorporated by reference, see § 192.7); or by reducing the operating pressure to a level not exceeding 80 percent of the level at the time the condition was discovered. An operator must notify PHMSA in accordance with § 192.949 if it cannot meet the schedule for evaluation and remediation required under paragraph (c) of this section and cannot provide safety through a temporary reduction in operating pressure or through another action. An operator must also notify a State pipeline safety authority when either a covered segment is located in a State where PHMSA has an interstate agent agreement or an intrastate covered segment is regulated by that State.

* * * * *

(d) * * *

(1) * * *

(i) A calculation of the remaining strength of the pipe shows a predicted failure pressure less than or equal to 1.1 times the maximum allowable operating pressure at the location of the anomaly. Suitable remaining strength calculation methods include ASME/ANSI B31G (incorporated by reference, see § 192.7), PRCI PR-3-805 (R-STRENG) (incorporated by reference, see § 192.7), or an alternative equivalent method of remaining strength calculation.

* * * * *

§ 192.939 [Amended]

31. Amend § 192.939 paragraph (a)(1)(ii) by removing the term “ASME/ANSI B31.8S” and adding in its place the term “ASME B31.8S (incorporated by reference, see § 192.7)”.

32. Amend Appendix B to Part 192 as follows:

a. Revise Part I to read as set forth below.

b. Amend the second paragraph of Part II.A, by removing the term “ASTM A53” and adding in its place the term “ASTM A53/A53M”.

APPENDIX B TO PART 192—QUALIFICATION OF PIPE

I. Listed Pipe Specifications

ANSI/API Specification 5L—Steel pipe, “Specification for Line Pipe” (incorporated by reference, see § 192.7).

ASTM A53/A53M—Steel pipe, “Standard Specification for Pipe, Steel Black and Hot-Dipped, Zinc-Coated, Welded and Seamless” (incorporated by reference, see § 192.7).

ASTM A106/A106M—Steel pipe, “Standard Specification for Seamless Carbon Steel Pipe for High Temperature Service” (incorporated by reference, see § 192.7).

ASTM A333/A333M—Steel pipe, “Standard Specification for Seamless and Welded Steel Pipe for Low Temperature Service” (incorporated by reference, see § 192.7).

ASTM A381—Steel pipe, “Standard Specification for Metal-Arc-Welded Steel Pipe for Use with High-Pressure Transmission Systems” (incorporated by reference, see § 192.7).

ASTM A671/A671M—Steel pipe, “Standard Specification for Electric-Fusion-Welded Pipe for Atmospheric and Lower Temperatures” (incorporated by reference, see § 192.7).

ASTM A672/672M—Steel pipe, “Standard Specification for Electric-Fusion-Welded Steel Pipe for High-Pressure Service at Moderate Temperatures” (incorporated by reference, see § 192.7).

ASTM A691/A691M—Steel pipe, “Standard Specification for Carbon and Alloy Steel Pipe, Electric-Fusion-Welded for High Pressure Service at High Temperatures” (incorporated by reference, see § 192.7).

ASTM D2513-99, “Standard Specification for Thermoplastic Gas Pressure Pipe, Tubing, and Fittings,” (incorporated by reference, see § 192.7).

ASTM D2513-09a—Polyethylene thermoplastic pipe and tubing, “Standard Specification for Polyethylene (PE) gas Pressure Pipe, Tubing, and Fittings”, (incorporated by reference, see § 192.7).

ASTM D2517—Thermosetting plastic pipe and tubing, “Standard Specification for Reinforced Epoxy Resin Gas Pressure Pipe and Fittings” (incorporated by reference, see § 192.7).

* * * * *

PART 193—LIQUEFIED NATURAL GAS FACILITIES: FEDERAL SAFETY STANDARDS

33. The authority citation for Part 193 continues to read as follows:

Authority: 49 U.S.C. 5103, 60102, 60103, 60104, 60108, 60109, 60110, 60113, 60118; and 49 CFR 1.53.

§§ 193.2019, 193.2051, 193.2057, 193.2301, 193.2303, 193.2401, 193.2521, 193.2639, 193.2639, and 193.2801 [Amended]

34. In 49 CFR part 193, remove the term “NFPA 59A” and add in its place “NFPA-59A-2001” everywhere it appears in the following sections:

a. Section 193.2019(a);

b. Section 193.2051;

c. Section 193.2057, introductory text;

f. Section 193.2301;

g. Section 193.2303;

h. Section 193.2401;

i. Section 193.2521;

j. Section 193.2639(a); and

k. Section 193.2801.

35. Section 193.2013 is revised to read as follows:

§ 193.2013 What documents are incorporated by reference partly or wholly in this part?

(a) This part prescribes standards, or portions thereof, incorporated by reference into this part with the approval of the Director of the Federal Register in 5 U.S.C. 552(a) and 1 CFR part 51. The materials listed in this section have the full force of law. To enforce any edition other than that specified in this section, PHMSA must publish a notice of change in the Federal Register.

(1) Availability of standards incorporated by reference. All of the materials incorporated by reference are available for inspection from several sources, including the following:

(i) The Office of Pipeline Safety, Pipeline and Hazardous Materials Safety Administration, 1200 New Jersey Avenue SE., Washington, DC 20590. For more information contact 202-366-4046 or go to the PHMSA Web site at: http://www.phmsa.dot.gov/pipeline/regs.

(ii) The National Archives and Records Administration (NARA). For information on the availability of this material at NARA, call 202-741-6030 or go to the NARA Web site at: http://www.archives.gov/federal_register/code_of_federal_regulations/ibr_locations.html.

(iii) Copies of standards incorporated by reference in this part can also be purchased or are otherwise made available from the respective standards-developing organization at the addresses provided in the centralized IBR section below.

(b) American Gas Association (AGA), 400 North Capitol Street NW., Washington, DC 20001, and phone: 202-824-7000, Web site: http://www.aga.org/.

(1) American Gas Association, “Purging Principles and Practices,” 3rd edition, June 2001, (Purging Principles and Practices), IBR approved for §§ 193.2513(b) and (c), 193.2517, and 193.2615(a).

(2) [Reserved]

(c) American Petroleum Institute (API), 1220 L Street NW., Washington, DC 20005, and phone: 202-682-8000, Web site: http://api.org/.

(1) API Standard 620, “Design and Construction of Large, Welded, Low-pressure Storage Tanks,” 11th edition, February 2008 (including addendum 1 (March 2009), addendum 2 (August 2010), and addendum 3 (March 2012)), (API Std 620), IBR approved for §§ 193.2101(b); 193.2321(b).

(2) [Reserved]

(d) American Society of Civil Engineers (ASCE), 1801 Alexander Bell Drive, Reston, VA 20191, (800) 548-2723, 703 295-6300 (international), Web site: http://www.asce.org.

(1) ASCE/SEI 7-05, “Minimum Design Loads for Buildings and Other Structures” 2005 edition (including supplement No. 1 and Errata), (ASCE/SEI 7-05), IBR approved for § 193.2067(b).

(2) [Reserved]

(e) ASME International (ASME), Three Park Avenue, New York, NY 10016. 800-843-2763 (U.S/Canada), Web site: http://www.asme.org/.

(1) ASME Boiler & Pressure Vessel Code, Section VIII, Division 1: “Rules for Construction of Pressure Vessels,” 2007 edition, July 1, 2007, (ASME BPVC, Section VIII, Division 1), IBR approved for § 193.2321(a).

(2) [Reserved]

(f) Gas Technology Institute (GTI), formerly the Gas Research Institute (GRI), 1700 S. Mount Prospect Road, Des Plaines, IL 60018, phone: 847-768-0500, Web site: www.gastechnology.org.

(1) GRI-96/0396.5, “Evaluation of Mitigation Methods for Accidental LNG Releases, Volume 5: Using FEM3A for LNG Accident Consequence Analyses,” April 1997, (GRI-96/0396.5), IBR approved for § 193.2059(a).

(2) GTI-04/0032 LNGFIRE3: “A Thermal Radiation Model for LNG Fires” March 2004, (GTI-04/0032 LNGFIRE3), IBR approved for § 193.2057(a).

(3) GTI-04/0049 “LNG Vapor Dispersion Prediction with the DEGADIS 2.1: Dense Gas Dispersion Model for LNG Vapor Dispersion,” April 2004, (GTI-04/0049), IBR approved for § 193.2059(a).

(g) National Fire Protection Association (NFPA), 1 Batterymarch Park, Quincy, MA, 02169 phone: 617-984-7275, Web site: http://www.nfpa.org/.

(1) NFPA-59A (2001), “Standard for the Production, Storage, and Handling of Liquefied Natural Gas (LNG),” (NFPA-59A-2001), IBR approved for §§ 193.2019(a), 193.2051, 193.2057, 193.2059 introductory text and (c), 193.2101(a), 193.2301, 193.2303, 193.2401, 193.2521, 193.2639(a), and 193.2801.

(2) NFPA 59A (2006), “Standard for the Production, Storage, and Handling of Liquefied Natural Gas (LNG),” 2006 edition, approved August 18, 2005, (NFPA-59A-2006), IBR approved for §§ 193.2101(b) and 193.2321(b).

§ 193.2059 [Amended]

36. Amend § 193.2059 as follows:

a. Amend the introductory text by removing the term “NFPA 59A” and adding in its place the term “NFPA-59A-2001”.

b. Amend paragraph (a) by removing the words “Gas Research Institute report GRI-89/0242 (incorporated by reference, see § 193.2013), “LNG Vapor Dispersion Prediction with the DEGADIS Dense Gas Dispersion Model”” and adding, in its place, “GTI-04/0049, “LNG Vapor Dispersion Prediction with the DEGADIS 2.1 Dense Gas Dispersion Model”” (incorporated by reference, see § 193.2013)”.

c. Amend paragraph (c) by removing the term “NFPA 59A” and adding in its place the term “NFPA-59A-2001”.

§ 193.2067 [Amended]

37. Amend § 193.2067 paragraph (b)(1) by removing the term “ASCE/SEI 7-05” and adding in its place the term “ASCE/SEI 7”.

§ 193.2101 [Amended]

38. Revise § 193.2101 to read as follows:

§ 193.2101 Scope.

(a) Each LNG facility designed after March 31, 2000 must comply with the requirements of this part and of NFPA-59A-2001 (incorporated by reference, see § 193.2013). If there is a conflict between this Part and NFPA-59A-2001, the requirements in this part prevail.

(b) Each stationary LNG storage tank must comply with Section 7.2.2 of NFPA-59A-2006 (incorporated by reference, see § 193.2013) for seismic design of field fabricated tanks. All other LNG storage tanks must comply with API Std-620 (incorporated by reference, see § 193.2013) for seismic design.

39. In § 193.2321, revise paragraphs (a), (b)(1), and (b)(2) to read as follows:

§ 193.2321 Nondestructive tests.

(a) The butt welds in metal shells of storage tanks with internal design pressure above 15 psig must be nondestructively examined in accordance with the ASME Boiler and Pressure Vessel Code (BPVC) (Section VIII, Division 1)(incorporated by reference, see § 193.2013), except that 100 percent of welds that are both longitudinal (or meridional) and circumferential (or latitudinal) of hydraulic load bearing shells with curved surfaces that are subject to cryogenic temperatures must be nondestructively examined in accordance with the ASME BPVC (Section VIII, Division 1).

(b) * * *

(1) Section 7.3.1.2 of NFPA Std-59A-2006, (incorporated by reference, see § 193. 2012);

(2) Appendices C and Q of API Std 620, (incorporated by reference, see § 193.2013);

* * * * *

§ 193.2513 [Amended]

40. Amend § 193.2513, paragraphs (b)(1) and (c)(5), by removing the words “AGA “Purging Principles and Practice”” and adding, in its place, “Purging Principles and Practices (incorporated by reference, see § 193.2013)”.

§ 193.2517 [Amended]

41. Amend § 193.2517 by removing the words “AGA “Purging Principles and Practice”” and adding, in its place, “Purging Principles and Practices (incorporated by reference, see § 193.2013)”.

§ 193.2615 [Amended]

42. Amend § 193.2615(a) by removing the words “AGA “Purging Principles and Practice”” and adding, in its place, “Purging Principles and Practices (incorporated by reference, see § 193.2013)”.

PART 195—TRANSPORTATION OF HAZARDOUS LIQUIDS BY PIPELINE

43. The authority citation for Part 195 continues to read as follows:

Authority: 49 U.S.C. 5103, 60102, 60104, 60108, 60109, 60116, 60118 and 60137; and 49 CFR 1.53.

§§ 195.5, 195.406 [Amended]

44. Amend 49 CFR part 195 by removing the term “ASME B31.8” and adding in its place the term “ASME/ANSI B31.8 (incorporated by reference, see § 195.3)” in the following sections.

a. Section 195.5 paragraph (a)(1)(i);

b. Section 195.406 paragraph (a)(1)(i).

45. Section 195.3 is revised to read as follows:

§ 195.3 What documents are incorporated by reference partly or wholly in this part?

(a) This part prescribes standards, or portions thereof, incorporated by reference into this part with the approval of the Director of the Federal Register in 5 U.S.C. 552(a) and 1 CFR part 51. The materials listed in this section have the full force of law. To enforce any edition other than that specified in this section, PHMSA must publish a notice of change in the Federal Register.

(1) Availability of standards incorporated by reference. All of the materials incorporated by reference are available for inspection from several sources, including the following:

(i) The Office of Pipeline Safety, Pipeline and Hazardous Materials Safety Administration, 1200 New Jersey Avenue SE., Washington, DC 20590. For more information contact 202-366-4046 or go to the PHMSA Web site at: http://www.phmsa.dot.gov/pipeline/regs.

(ii) The National Archives and Records Administration (NARA). For information on the availability of this material at NARA, call 202-741-6030 or go to the NARA Web site at: http://www.archives.gov/federal_register/code_of_federal_regulations/ibr_locations.html.

(iii) Copies of standards incorporated by reference in this part can also be purchased from the respective standards-developing organization at the addresses provided in the centralized IBR section below.

(b) American Petroleum Institute (API), 1220 L Street NW., Washington, DC 20005, and phone: 202-682-8000, Web site: http://api.org/.

(1) API Publication 2026, “Safe Access/Egress Involving Floating Roofs of Storage Tanks in Petroleum Service,” 2nd edition, April 1998 (reaffirmed June 2006) (API Pub 2026), IBR approved for § 195.405(b).

(2) API Recommended Practice 5L1, “Recommended Practice for Railroad Transportation of Line Pipe,” 7th edition, September 2009, (API RP 5L1), IBR approved for § 195.207(a).

(3) API Recommended Practice 5LT, “Recommended Practice for Truck Transportation of Line Pipe,” First edition, March 12, 2012, (API RP 5LT), IBR approved for § 195.207(c).

(4) API Recommended Practice 5LW, “Recommended Practice Transportation of Line Pipe on Barges and Marine Vessels,” 3rd edition, September 2009, (API RP 5LW), IBR approved for § 195.207(b).

(5) ANSI/API Recommended Practice 651, “Cathodic Protection of Aboveground Petroleum Storage Tanks,” 3rd edition, January 2007, (ANSI/API RP 651), IBR approved for §§ 195.565 and 195.573(d).

(6) ANSI/API Recommended Practice 652, “Linings of Aboveground Petroleum Storage Tank Bottoms,” 3rd edition, October 2005, (API RP 652), IBR approved for § 195.579(d).

(7) API Recommended Practice 1130, “Computational Pipeline Monitoring for Liquids: Pipeline Segment,” 3rd edition, September 2007, (API RP 1130), IBR approved for §§ 195.134 and 195.444.

(8) API Recommended Practice 1162, “Public Awareness Programs for Pipeline Operators,” 1st edition, December 2003, (API RP 1162), IBR approved for § 195.440(a), (b), and (c).

(9) API Recommended Practice 1165, “Recommended Practice for Pipeline SCADA Displays,” First edition, January 2007, (API RP 1165), IBR approved for § 195.446(c).

(10) API Recommended Practice 1168, “Pipeline Control Room Management,” First edition, September 2008, (API RP 1168), IBR approved for § 195.446(c) and (f).

(11) API Recommended Practice 2003, “Protection against Ignitions Arising out of Static, Lightning, and Stray Currents,” 7th edition, January 2008, (API RP 2003), IBR approved for § 195.405(a).

(12) API Recommended Practice 2350, “Overfill Protection for Storage Tanks in Petroleum Facilities,” 3rd edition, January 2005, (API RP 2350), IBR approved for § 195.428(c).

(13) API Specification 5L, “Specification for Line Pipe,” 45th edition, effective July 1, 2013, (ANSI/API Spec 5L), IBR approved for § 195.106(b) and (e).

(14) ANSI/API Specification 6D, “Specification for Pipeline Valves,” 23rd edition, effective October 1, 2008, (including Errata 1 (June 2008), Errata 2 (November 2008), Errata 3 (February 2009), Errata 4 (April 2010), Errata 5 (November 2010), and Errata 6 (August 2011); Addendum 1 (October 2009), Addendum 2 (August 2011), and Addendum 3 (October 2012)); (ANSI/API Spec 6D), IBR approved for § 195.116(d).

(15) API Specification 12F, “Specification for Shop Welded Tanks for Storage of Production Liquids,” 12th edition, October 2008, effective April 1, 2009, (API Spec 12F), IBR approved for §§ 195.132(b); 195.205(b); 195.264(b) and (e); 195.307(a); 195.565; 195.579(d).

(16) API Standard 510, “Pressure Vessel Inspection Code: In-Service Inspection, Rating, Repair, and Alteration,” 9th edition, June 2006, (API Std 510), IBR approved for §§ 195.205(b); 195.432(c).

(17) API Standard 620, “Design and Construction of Large, Welded, Low-Pressure Storage Tanks,” 11th edition February 2008 (including addendum 1 (March 2009), addendum 2 (August 2010), and addendum 3 (March 2012)), (API Std 620), IBR approved for §§ 195.132(b); 195.205(b); 195.264(b) and (e); 195.307(b); 195.565, 195.579(d).

(18) API Standard 650, “Welded Steel Tanks for Oil Storage,” 11th edition, June 2007, effective February 1, 2012, (including addendum 1 (November 2008), addendum 2 (November 2009), addendum 3 (August 2011), and errata (October 2011)), (API Std 650), IBR approved for §§ 195.132(b); 195.205(b); 195.264(b), (e); 195.307(c) and (d); 195.565; 195.579(d).

(19) API Standard 653, “Tank Inspection, Repair, Alteration, and Reconstruction,” 3rd edition, December 2001, (including addendum 1 (September 2003), addendum 2 (November 2005), addendum 3 (February 2008), and errata (April 2008)), (API Std 653), IBR approved for §§ 195.205(b), 195.307(d), and 195.432(b).

(20) API Standard 1104, “Welding of Pipelines and Related Facilities,” 20th edition, October 2005, (including errata/addendum (July 2007) and errata 2 (2008), (API Std 1104)), IBR approved for §§ 195.214(a), 195.222(a) and (b), 195.228(b).

(21) ANSI/API Standard 2000, “Venting Atmospheric and Low-pressure Storage Tanks,” 6th edition, November 2009, (ANSI/API Std 2000), IBR approved for § 195.264(e).

(22) API Standard 2510, “Design and Construction of LPG Installations,” 8th edition, 2001, (API Std 2510), IBR approved for §§ 195.132(b), 195.205(b), 195.264 (b), (e); 195.307 (e), 195.428 (c); and 195.432 (c).

(c) ASME International (ASME), Two Park Avenue, New York, NY 10016, 800-843-2763 (U.S/Canada), Web site: http://www.asme.org/.

(1) ASME/ANSI B16.9-2007, “Factory-Made Wrought Buttwelding Fittings,” December 7, 2007, (ASME/ANSI B16.9), IBR approved for § 195.118(a).

(2) ASME/ANSI B31G-1991 (Reaffirmed 2004), “Manual for Determining the Remaining Strength of Corroded Pipelines,” 2004, (ASME/ANSI B31G), IBR approved for §§ 195.452(h); and 195.587.

(3) ASME/ANSI B31.4-2006, “Pipeline Transportation Systems for Liquid Hydrocarbons and Other Liquids” October 20, 2006, (ASME/ANSI B31.4), IBR approved for §§ 195.110(a); 195.452(h).

(4) ASME/ANSI B31.8-2007, “Gas Transmission and Distribution Piping Systems,” November 30, 2007, (ASME/ANSI B31.8), IBR approved for §§ 195.5(a) and 195.406(a).

(5) ASME Boiler & Pressure Vessel Code, Section VIII, Division 1, “Rules for Construction of Pressure Vessels,” 2007 edition, July 1, 2007, (ASME BPVC, Section VIII, Division 1), IBR approved for §§ 195.124 and 195.307(e).

(6) ASME Boiler & Pressure Vessel Code, Section VIII, Division 2, “Alternate Rules, Rules for Construction of Pressure Vessels,” 2007 edition, July 1, 2007, (ASME BPVC, Section VIII, Division 2), IBR approved for § 195.307(e).

(7) ASME Boiler & Pressure Vessel Code, Section IX: “Qualification Standard for Welding and Brazing Procedures, Welders, Brazers, and Welding and Brazing Operators,” 2007 edition, July 1, 2007, (ASME BPVC, Section IX), IBR approved for § 195.222(a).

(d) American Society for Testing and Materials (ASTM), 100 Barr Harbor Drive, P.O. Box C700, West Conshohocken, PA 119428, phone: 610-832-9585, Web site: http://www.astm.org/.

(1) ASTM A53/A53M-10, “Standard Specification for Pipe, Steel, Black and Hot-Dipped, Zinc-Coated, Welded and Seamless,” approved October 1, 2010, (ASTM A53/A53M), IBR approved for § 195.106(e).

(2) ASTM A106/A106M-10, “Standard Specification for Seamless Carbon Steel Pipe for High-Temperature Service,” approved April 1, 2010, (ASTM A106/A106M), IBR approved for § 195.106(e).

(3) ASTM A333/A333M-11, “Standard Specification for Seamless and Welded Steel Pipe for Low-Temperature Service,” approved April 1, 2011, (ASTM A333/A333M), IBR approved for § 195.106(e).

(4) ASTM A381-96 (Reapproved 2005), “Standard Specification for Metal-Arc Welded Steel Pipe for Use with High-Pressure Transmission Systems,” approved October 1, 2005, (ASTM A381), IBR approved for § 195.106(e).

(5) ASTM A671/A671M-10, “Standard Specification for Electric-Fusion-Welded Steel Pipe for Atmospheric and Lower Temperatures,” approved April 1, 2010, (ASTM A671/A671M), IBR approved for § 195.106(e).

(6) ASTM A672/A672M-09, “Standard Specification for Electric-Fusion-Welded Steel Pipe for High-Pressure Service at Moderate Temperatures,” approved October 1, 2009, (ASTM A672/A672M), IBR approved for § 195.106(e).

(7) ASTM A691/A691M-09, “Standard Specification for Carbon and Alloy Steel Pipe, Electric-Fusion-Welded for High-Pressure Service at High Temperatures,” approved October 1, 2009, (ASTM A691), IBR approved for § 195.106(e).

(e) Manufacturers Standardization Society of the Valve and Fittings Industry, Inc. (MSS), 127 Park St. NE., Vienna, VA 22180, phone: 703-281-6613, Web site: http://www.mss-hq.org/.

(1) MSS SP-75-2008 Standard Practice, “Specification for High-Test, Wrought, Butt-Welding Fittings,” 2008 edition, (MSS SP 75), IBR approved for § 195.118(a).

(2) [Reserved]

(f) NACE International (NACE), 1440 South Creek Drive, Houston, TX 77084, phone: 281-228-6223 or 800-797-6223, Web site: http://www.nace.org/Publications/.

(1) NACE SP0169-2007, Standard Practice, “Control of External Corrosion on Underground or Submerged Metallic Piping Systems” reaffirmed March 15, 2007, (NACE SP0169), IBR approved for §§ 195.571 and 195.573(a).

(2) ANSI/NACE SP0502-2010, Standard Practice, “Pipeline External Corrosion Direct Assessment Methodology,” June 24, 2010, (NACE SP0502), IBR approved for § 195.588(b).

(g) National Fire Protection Association (NFPA), 1 Batterymarch Park, Quincy, MA 02169, phone: 617-984-7275, Web site: http://www.nfpa.org/.

(1) NFPA-30 (2012), “Flammable and Combustible Liquids Code,” including Errata 30-12-1 (9/27/11), and Errata 30-12-2 (11/14/11), 2012 edition, copyright 2011, (NFPA-30), IBR approved for § 195.264(b).

(2) [Reserved]

(h) Pipeline Research Council International, Inc. (PRCI), c/o Technical Toolboxes, 3801 Kirby Drive, Suite 520, P.O. Box 980550, Houston, TX 77098, phone: 713-630-0505, toll free: 866-866-6766, Web site: http://www.ttoolboxes.com/.

(1) AGA Pipeline Research Committee, Project PR-3-805 “A Modified Criterion for Evaluating the Remaining Strength of Corroded Pipe,” December 22, 1989, (PR-3-805 (RSTRING)). IBR approved for §§ 195.452(h); 195.587.

(2) [Reserved]

46. Amend § 195.106 as follows:

a. In paragraph (b)(1)(i), remove the term “API Specification 5L” and add in its place the term “ANSI/API Spec 5L (incorporated by reference, see § 195.3)”.

b. Revise paragraph (e) to read as follows:

§ 195.106 Internal design pressure.

* * * * *

(e)(1) The seam joint factor used in paragraph (a) of this section is determined in accordance with the following standards incorporated by reference (see § 195.3):

Specification | Pipe class | Seam joint factor
ASTM A53/A53M | Seamless | 1.00
| Electric resistance welded | 1.00
| Furnace lap welded | 0.80
| Furnace butt welded | 0.60
ASTM A106/A106M | Seamless | 1.00
ASTM A333/A333M | Seamless | 1.00
| Welded | 1.00
ASTM A381 | Double submerged arc welded | 1.00
ASTM A671/A671M | Electric-fusion-welded | 1.00
ASTM A672/A672M | Electric-fusion-welded | 1.00
ASTM A691/A691M | Electric-fusion-welded | 1.00
ANSI/API Spec 5L | Seamless | 1.00
| Electric resistance welded | 1.00
| Electric flash welded | 1.00
| Submerged arc welded | 1.00
| Furnace lap welded | 0.80
| Furnace butt welded | 0.60

(2) The seam joint factor for pipe that is not covered by this paragraph must be approved by the Administrator.

§ 195.116 [Amended]

47. Amend § 195.116 (d) by removing the term “API Standard 6D” and adding in its place the term “ANSI/API Spec 6D”.

§ 195.118 [Amended]

48. Amend § 195.118 paragraph (a) by removing the term “ASME/ANSI B16.9 or MSS Standard Practice SP-75” and adding in its place the term “ASME/ANSI B16.9 or MSS SP-75 (incorporated by reference, see § 195.3)”.

49. Section 195.124 is revised to read as follows:

§ 195.124 Closures.

Each closure to be installed in a pipeline system must comply with the 2007 ASME Boiler and Pressure Vessel Code (BPVC) (Section VIII, Division 1) (incorporated by reference, see § 195.3) and must have pressure and temperature ratings at least equal to those of the pipe to which the closure is attached.

§ 195.132 [Amended]

50. Amend § 195.132 as follows:

a. Amend paragraph (b)(1) by removing the term “API Specification 12F” and adding in its place “API Spec 12F (incorporated by reference, see § 195.3)”.

b. Amend paragraph (b)(2) by removing the term “API Standard 620” and adding in its place “API Std 620 (incorporated by reference, see § 195.3)”.

c. Amend paragraph (b)(3) by removing the term “API Standard 650” and adding in its place “API Std 650 (incorporated by reference, see § 195.3)”.

d. Amend paragraph (b)(4) by removing the term “API Standard 2510” and adding in its place “API Std 2510 (incorporated by reference, see § 195.3)”.

§ 195.134 [Amended]

51. Amend § 195.134 by removing the term “API 1130” and adding in its place “API RP 1130 (incorporated by reference, see § 195.3)” the first instance and “API RP 1130” the second instance.

52. In 195.205, paragraph (b) is revised to read as follows:

§ 195.205 Repair, alteration and reconstruction of aboveground breakout tanks that have been in service.

* * * * *

(b) After October 2, 2000, compliance with paragraph (a) of this section requires the following:

(1) For tanks designed for approximate atmospheric pressure, constructed of carbon and low alloy steel, welded or riveted, and non-refrigerated; and for tanks built to API Std 650 (incorporated by reference, see § 195.3) or its predecessor Standard 12C; repair, alteration; and reconstruction must be in accordance with API Std 653 (except section 6.4.3) (incorporated by reference, see § 195.3).

(2) For tanks built to API Spec 12F (incorporated by reference, see § 195.3) or API Std 620 (incorporated by reference, see § 195.3), repair, alteration, and reconstruction must be in accordance with the design, welding, examination, and material requirements of those respective standards.

(3) For high-pressure tanks built to API Std 2510 (incorporated by reference, see § 195.3), repairs, alterations, and reconstruction must be in accordance with API Std 510 (incorporated by reference, see § 195.3).

53. Amend § 195.207 as follows:

a. In paragraph (a), remove the term “API Recommended Practice 5L1” and add in its place the term “API RP 5L1.”

b. In paragraph (b), remove the term “API Recommended Practice 5LW” and add in its place the term “API RP 5LW.”

c. Add a new paragraph (c) to read as set forth below:

§ 195.207 Transportation of pipe.

* * * * *

(c) Truck. In a pipeline to be operated at a hoop stress of 20 percent or more of SMYS, an operator may not use pipe having an outer diameter to wall thickness ratio of 70 to 1, or more, that is transported by truck unless the transportation is performed in accordance with API RP 5LT (incorporated by reference, see § 195.3).

54. In § 195.214, revise paragraph (a) to read as follows:

§ 195.214 Welding procedures.

(a) Welding must be performed by a qualified welder in accordance with welding procedures qualified under Section 5 of API Std 1104 or Section IX of the ASME Boiler and Pressure Vessel Code (ASME BPVC) (incorporated by reference, see § 195.3). The quality of the test welds used to qualify the welding procedure shall be determined by destructive testing.

* * * * *

55. In § 195.222, revise the section heading and paragraphs (a) and (b)(2) to read as follows:

§ 195.222 Welders: Qualification of welders and welding operators.

(a) Each welder or welding operator must be qualified in accordance with section 6 or 12 of API Std 1104 (incorporated by reference, see § 195.3) or with Section IX of ASME Boiler and Pressure Vessel Code (BPVC) (incorporated by reference, see § 195.3), except that a welder qualified under an earlier edition than listed in § 195.3 may weld but may not re-qualify under that earlier edition.

(b) * * *

(2) Had one weld tested and found acceptable under section 9 or Appendix A of API Std 1104 (incorporated by reference, see § 195.3).

§ 195.228 [Amended]

56. Amend § 195.228(b) by removing the term “API 1104” and adding in its place the term “API Std 1104” in two locations.

57. In § 195.264, paragraphs (b)(1) and (2) and (e)(1) through (4) are revised to read as follows:

§ 195.264 Impoundment, protection against entry, normal/emergency venting or pressure/vacuum relief, for aboveground breakout tanks.

* * * * *

(b) * * *

(1) For tanks built to API Spec 12F, API Std 620, and others (such as API Std 650 (or its predecessor Standard 12C)), the installation of impoundment must be in accordance with the following sections of NFPA-30 (incorporated by reference, see § 195.3);

(i) Impoundment around a breakout tank must be installed in accordance with section 22.11.2; and

(ii) Impoundment by drainage to a remote impounding area must be installed in accordance with section 22.11.1.

(2) For tanks built to API Std 2510 (incorporated by reference, see § 195.3), the installation of impoundment must be in accordance with section 5 or 11 of API Std 2510.

* * * * *

(e) * * *

(1) Normal/emergency relief venting installed on atmospheric pressure tanks built to API Spec 12F must be in accordance with section 4 and Appendices B and C of API Spec 12F (incorporated by reference, see § 195.3).

(2) Normal/emergency relief venting installed on atmospheric pressure tanks (such as those built to API Std 650 or its predecessor Standard 12C) must be in accordance with API Std 2000 (incorporated by reference, see § 195.3).

(3) Pressure-relieving and emergency vacuum-relieving devices installed on low-pressure tanks built to API Std 620 must be in accordance with Section 9 of API Std 620 (incorporated by reference, see § 195.3) and its references to the normal and emergency venting requirements in API Std 2000 (incorporated by reference, see § 195.3).

(4) Pressure and vacuum-relieving devices installed on high-pressure tanks built to API Std 2510 must be in accordance with sections 7 or 11 of API Std 2510 (incorporated by reference, see § 195.3).

58. Section 195.307 is revised to read as follows:

§ 195.307 Pressure testing aboveground breakout tanks.

(a) For aboveground breakout tanks built to API Spec 12F (incorporated by reference, see § 195.3) and first placed in service after October 2, 2000, pneumatic testing must be performed in accordance with section 5.3 of API Spec 12 F.

(b) For aboveground breakout tanks built to API Std 620 (incorporated by reference, see § 195.3) and first placed in service after October 2, 2000, hydrostatic and pneumatic testing must be performed in accordance with section 7.18 of API Std 620.

(c) For aboveground breakout tanks built to API Std 650 (incorporated by reference, see § 195.3) and first placed in service after October 2, 2000, testing must be performed in accordance with Sections 7.3.5 and 7.3.6 of API Standard 650.

(d) For aboveground atmospheric pressure breakout tanks constructed of carbon and low alloy steel, welded or riveted, and non-refrigerated; and tanks that are returned to service after October 2, 2000, and are built to API Std 650 (incorporated by reference, see § 195.3) or its predecessor Standard 12C; the necessity for the hydrostatic testing of repair, alteration, and reconstruction is covered in Section 12.3 of API Std 653.

(e) For aboveground breakout tanks built to API Std 2510 (incorporated by reference, see § 195.3) and first placed in service after October 2, 2000, pressure testing must be performed in accordance with 2007 ASME Boiler and Pressure Vessel Code (BPVC) (Section VIII, Division 1 or 2).

59. Section 195.405 is revised to read as follows:

§ 195.405 Protection against ignitions and safe access/egress involving floating roofs.

(a) After October 2, 2000, protection provided against ignitions arising out of static electricity, lightning, and stray currents during operation and maintenance activities involving aboveground breakout tanks must be in accordance with API RP 2003 (incorporated by reference, see § 195.3), unless the operator notes in the procedural manual (§ 195.402(c)) why compliance with all or certain provisions of API RP 2003 is not necessary for the safety of a particular breakout tank.

(b) The hazards associated with access/egress onto floating roofs of in-service aboveground breakout tanks to perform inspection, service, maintenance, or repair activities (other than specified general considerations, specified routine tasks or entering tanks removed from service for cleaning) are addressed in API Pub 2026 (incorporated by reference, see § 195.3). After October 2, 2000, the operator must review and consider the potentially hazardous conditions, safety practices, and procedures in API Pub 2026 for inclusion in the procedure manual (§ 195.402(c)).

60. In § 195.432, revise paragraphs (b) and (c) to read as follows:

§ 195.432 Inspection of in-service breakout tanks.

* * * * *

(b) Each operator must inspect the physical integrity of in-service atmospheric and low-pressure steel above-ground breakout tanks according to API Std 653 (except section 6.4.3, Alternative Internal Inspection Interval) (incorporated by reference, see § 195.3). However, if structural conditions prevent access to the tank bottom, its integrity may be assessed according to a plan included in the operations and maintenance manual under § 195.402(c)(3). The risk-based internal inspection procedures in API Std 653, section 6.4.3 cannot be used to determine the internal inspection interval.

(1) Operators who established internal inspection intervals based on risk-based inspection procedures prior to March 6, 2015 must re-establish internal inspection intervals based on API Std 653, section 6.4.2 (incorporated by reference, see § 195.3).

(i) If the internal inspection interval was determined by the prior risk-based inspection procedure using API Std 653, section 6.4.3 and the resulting calculation exceeded 20 years, and it has been more than 20 years since an internal inspection was performed, the operator must complete a new internal inspection in accordance with § 195.432(b)(1) by January 5, 2017.

(ii) If the internal inspection interval was determined by the prior risk-based inspection procedure using API Std 653, section 6.4.3 and the resulting calculation was less than or equal to 20 years, and the time since the most recent internal inspection exceeds the re-established inspection interval in accordance with § 195.432(b)(1), the operator must complete a new internal inspection by January 5, 2017.

(iii) If the internal inspection interval was not based upon current engineering and operational information (i.e., actual corrosion rate of floor plates, actual remaining thickness of the floor plates, etc.), the operator must complete a new internal inspection by January 5, 2017 and re-establish a new internal inspection interval in accordance with § 195.432(b)(1).

(2) [Reserved]

(c) Each operator must inspect the physical integrity of in-service steel aboveground breakout tanks built to API Std 2510 (incorporated by reference, see § 195.3) according to section 6 of API Std 510 (incorporated by reference, see § 195.3).

* * * * *

§ 195.444 [Amended]

61. Amend § 195.444 by removing the term “API 1130” and adding in its place “API RP 1130 (incorporated by reference, see § 195.3).”

62. In § 195.452, revise paragraphs (h)(4)(i)(B), (h)(4)(iii)(D), and paragraph (l)(1) to read as follows:

§ 195.452 Pipeline integrity management in high consequence areas.

* * * * *

(h) * * *

(4) * * *

(i) * * *

(B) A calculation of the remaining strength of the pipe shows a predicted burst pressure less than the established maximum operating pressure at the location of the anomaly. Suitable remaining strength calculation methods include, but are not limited to, ASME/ANSI B31G (incorporated by reference, see § 195.3) and PRCI PR-3-805 (R-STRENG) (incorporated by reference, see § 195.3).

* * * * *

(iii) * * *

(D) A calculation of the remaining strength of the pipe shows an operating pressure that is less than the current established maximum operating pressure at the location of the anomaly. Suitable remaining strength calculation methods include, but are not limited to, ASME/ANSI B31G and PRCI PR-3-805 (R-STRENG).

* * * * *

(l) What records must an operator keep to demonstrate compliance?—(1) An operator must maintain, for the useful life of the pipeline, records that demonstrate compliance with the requirements of this subpart. At a minimum, an operator must maintain the following records for review during an inspection:

(i) A written integrity management program in accordance with paragraph (b) of this section.

(ii) Documents to support the decisions and analyses, including any modifications, justifications, deviations and determinations made, variances, and actions taken, to implement and evaluate each element of the integrity management program listed in paragraph (f) of this section.

* * * * *

63. Section 195.565 is revised to read as follows:

§ 195.565 How do I install cathodic protection on breakout tanks?

After October 2, 2000, when you install cathodic protection under § 195.563(a) to protect the bottom of an aboveground breakout tank of more than 500 barrels 79.49m3 capacity built to API Spec 12F (incorporated by reference, see § 195.3), API Std 620 (incorporated by reference, see § 195.3), API Std 650 (incorporated by reference, see § 195.3), or API Std 650's predecessor, Standard 12C, you must install the system in accordance with ANSI/API RP 651 (incorporated by reference, see § 195.3). However, you don't need to comply with ANSI/API RP 651 when installing any tank for which you note in the corrosion control procedures established under § 195.402(c)(3) why complying with all or certain provisions of ANSI/API RP 651 is not necessary for the safety of the tank.

64. In § 195.573, revise paragraph (d) to read as follows:

§ 195.573 What must I do to monitor external corrosion control?

* * * * *

(d) Breakout tanks. You must inspect each cathodic protection system used to control corrosion on the bottom of an aboveground breakout tank to ensure that operation and maintenance of the system are in accordance with API RP 651 (incorporated by reference, see § 195.3). However, this inspection is not required if you note in the corrosion control procedures established under § 195.402(c)(3) why complying with all or certain operation and maintenance provisions of API RP 651 is not necessary for the safety of the tank.

* * * * *

65. In § 195.579, revise paragraph (d) to read as follows:

§ 195.579 What must I do to mitigate internal corrosion?

* * * * *

(d) Breakout tanks. After October 2, 2000, when you install a tank bottom lining in an aboveground breakout tank built to API Spec 12F (incorporated by reference, see § 195.3), API Std 620 (incorporated by reference, see § 195.3), API Std 650 (incorporated by reference, see § 195.3), or API Std 650's predecessor, Standard 12C, you must install the lining in accordance with API RP 652 (incorporated by reference, see § 195.3). However, you don't need to comply with API RP 652 when installing any tank for which you note in the corrosion control procedures established under § 195.402(c)(3) why compliance with all or certain provisions of API RP 652 is not necessary for the safety of the tank.

66. Section 195.587 is revised to read as follows:

§ 195.587 What methods are available to determine the strength of corroded pipe?

Under § 195.585, you may use the procedure in ASME/ANSI B31G (incorporated by reference, see § 195.3) or in PRCI PR-3-805 (R-STRENG) (incorporated by reference, see § 195.3) to determine the strength of corroded pipe based on actual remaining wall thickness. These procedures apply to corroded regions that do not penetrate the pipe wall, subject to the limitations set out in the respective procedures.

PART 198—REGULATIONS FOR GRANTS TO AID STATE PIPELINE SAFETY PROGRAMS

67. The authority citation for Part 198 continues to read as follows:

Authority: 49 U.S.C. 60105, 60106, 60114, and 49 CFR 1.53.

§ 198.37 [Amended]

68. Amend paragraph (f) by removing the phrase “§ 192.614 (b)(4) through (b)(6)” and adding in its place “§ 192.614 (c)(4) through (c)(6).”

PART 199—DRUG AND ALCOHOL TESTING

69. The authority citation for Part 199 continues to read as follows:

Authority: 49 U.S.C. 5103, 60102, 60104, 60108, 60117, and 60118; and 49 CFR 1.53.

§ 199.111 [Removed and Reserved]

70. Remove and reserve § 199.111.

Issued in Washington, DC, on December 18, 2014, under authority delegated in 49 CFR 1.97(a).
Timothy P. Butters,
Acting Administrator.

[FR Doc. 2014-30336 Filed 1-2-15; 8:45 am]

BILLING CODE 4910-60-P